DEPARTMENT OF HOUSING AND URBAN DEVELOPMENT

[Docket No. FR-5186-N-11]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Kathy Ezzell, Department of Housing and Urban Development, 451 Seventh Street, SW., Room 7266, Washington, DC 20410; telephone (202) 708-1234; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to John Hicks, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including ZIP code), the date of publication in the Federal Register, the landholding agency, and the property number.

For more information regarding particular properties identified in this Notice (i.e., acreage, floor plan, existing sanitary facilities, exact street address), providers should contact the appropriate landholding agencies at the following addresses: COAST GUARD: Commandant, United States Coast Guard, Attn: Teresa Sheinberg, 2100 Second St, SW., Rm 6109, Washington, DC 20593-0001; (202) 267-6142; COMMERCE: Mr. Lance Feiner, Acting Director, Department of Commerce, Office of Real Estate, 14th & Constitution Ave., NW., Rm 1036, Washington, DC 20230; (202) 482-3580; ENERGY: Mr. Mark Price, Department of Energy, Office of Engineering & Construction Management, ME-90, 1000 Independence Ave., SW., Washington, DC 20585: (202) 586-0072; GSA: Mr. John Smith, Deputy Assistant Commissioner, General Services Administration, Office of Property Disposal, 18th & F Streets, NW., Washington, DC 20405; (202) 501-0084; INTERIOR: Mr. Michael Wright, Acquisition & Property Management, Department of the Interior, 1849 C Street, NW., MS2603, Washington, DC 20240; (202) 208-5399; NAVY: Mrs. Mary Arndt, Acting Director, Department of the Navy, Real Estate Services, Naval Facilities Engineering Command, Washington Navy Yard, 1322 Patterson Ave., SE., Suite 1000, Washington, DC 20374-5065; (202) 685-9305; VA: Mr. George Szwarcman, Acting Director, Real Property Service, Department of Veterans Affairs, 811 Vermont Ave., NW., RM 555, Washington, DC 20420; (202) 565-5398; (These are not toll-free numbers).

Dated: March 6, 2008.
Mark R. Johnston,
Deputy Assistant Secretary for Special Needs.

TITLE V, FEDERAL SURPLUS PROPERTY PROGRAM FEDERAL REGISTER REPORT FOR 03/14/2008

Suitable/Available Properties

Building

Colorado

Bldg. 2

VAMC 2121 North Avenue

Grand Junction Co: Mesa CO 81501

Landholding Agency: VA

Property Number: 97200430001

Status: Unutilized

Comments: 3298 sq. ft., needs major rehab, presence of asbestos/lead paint

Bldg. 3

VAMC

2121 North Avenue

Grand Junction Co: Mesa CO 81501

Landholding Agency: VA

Property Number: 97200430002

Status: Unutilized

Comments: 7275 sq. ft., needs major rehab, presence of asbestos/lead paint

Suitable/Available Properties

Building

Indiana

Bldg. 105, VAMC

East 38th Street

Marion Co: Grant IN 46952

Landholding Agency: VA

Property Number: 97199230006

Status: Excess

Comments: 310 sq. ft., 1 story stone structure, no sanitary or heating facilities, Natl Register of Historic Places

Bldg. 140, VAMC

East 38th Street

Marion Co: Grant IN 46952

Landholding Agency: VA

Property Number: 97199230007

Status: Excess

Comments: 60 sq. ft., concrete block bldg., most recent use—trash house

Bldg. 7

VA Northern Indiana Health Care System

Marion Campus, 1700 East 38th Street

Marion Co: Grant IN 46953

Landholding Agency: VA

Property Number: 97199810001

Status: Underutilized

Comments: 16,864 sq. ft., presence of asbestos, most recent use—psychiatric ward, National Register of Historic Places

Suitable/Available Properties

Building

Indiana

Bldg. 10

VA Northern Indiana Health Care System

Marion Campus, 1700 East 38th Street

Marion Co: Grant IN 46953

Landholding Agency: VA

Property Number: 97199810002

Status: Underutilized

Comments: 16,361 sq. ft., presence of asbestos, most recent use—psychiatric ward, National Register of Historic Places

Bldg. 11

VA Northern Indiana Health Care System

Marion Campus, 1700 East 38th Street

Marion Co: Grant IN 46953

Landholding Agency: VA

Property Number: 97199810003

Status: Underutilized

Comments: 16,361 sq. ft., presence of asbestos, most recent use—psychiatric ward, National Register of Historic Places

Bldg. 18

VA Northern Indiana Health Care System

Marion Campus, 1700 East 38th Street

Marion Co: Grant IN 46953

Landholding Agency: VA

Property Number: 97199810004

Status: Underutilized

Comments: 13,802 sq. ft., presence of asbestos, most recent use—psychiatric ward, National Register of Historic Places

Suitable/Available Properties

Building

Indiana

Bldg. 25

VA Northern Indiana Health Care System

Marion Campus, 1700 East 38th Street

Marion Co: Grant IN 46953

Landholding Agency: VA

Property Number: 97199810005

Status: Unutilized

Comments: 32,892 sq. ft., presence of asbestos, most recent use—psychiatric ward, National Register of Historic Places

Bldg. 1

N. Indiana Health Care System

Marion Co: Grant IN 46952

Landholding Agency: VA

Property Number: 97200310001

Status: Unutilized

Comments: 20,287 sq. ft., needs extensive repairs, presence of asbestos, most recent use—patient ward

Bldg. 3

N. Indiana Health Care System

Marion Co: Grant IN 46952

Landholding Agency: VA

Property Number: 97200310002

Status: Unutilized

Comments: 20,550 sq. ft., needs extensive repairs, presence of asbestos, most recent use—patient ward

Suitable/Available Properties

Building

Indiana

Bldg. 4

N. Indiana Health Care System

Marion Co: Grant IN 46952

Landholding Agency: VA

Property Number: 97200310003

Status: Unutilized

Comments: 20,550 sq .ft., needs extensive repairs, presence of asbestos, most recent use—patient ward

Bldg. 13

N. Indiana Health Care System

Marion Co: Grant IN 46952

Landholding Agency: VA

Property Number: 97200310004

Status: Unutilized

Comments: 8971 sq. ft., needs extensive repairs, presence of asbestos, most recent use—office

Bldg. 19

N. Indiana Health Care System

Marion Co: Grant IN 46952

Landholding Agency: VA

Property Number: 97200310005

Status: Unutilized

Comments: 12,237 sq. ft., needs extensive repairs, presence of asbestos, most recent use—office

Suitable /Available Properties

Building

Indiana

Bldg. 20

N. Indiana Health Care System

Marion Co: Grant IN 46952

Landholding Agency: VA

Property Number: 97200310006

Status: Unutilized

Comments: 14,039 sq. ft., needs extensive repairs, presence of asbestos, most recent use—office/storage

Bldg. 42

N. Indiana Health Care System

Marion Co: Grant IN 46952

Landholding Agency: VA

Property Number: 97200310007

Status: Unutilized

Comments: 5025 sq. ft., needs extensive repairs, presence of asbestos, most recent use—office

Bldg. 60

N. Indiana Health Care System

Marion Co: Grant IN 46952

Landholding Agency: VA

Property Number: 97200310008

Status: Unutilized

Comments: 18,126 sq. ft., needs extensive repairs, presence of asbestos, most recent use—office

Suitable /Available Properties

Building

Indiana

Bldg. 122

N. Indiana Health Care System

Marion Co: Grant IN 46952

Landholding Agency: VA

Property Number: 97200310009

Status: Unutilized

Comments: 37,135 sq. ft., needs extensive repairs, presence of asbestos, most recent use—dining hall/kitchen

Nebraska

Warehouse

Bldg. 1047-15-28-2

McCook Co: Red Willow NE 69001

Landholding Agency: GSA

Property Number: 54200740013

Status: Surplus

GSA Number: 7-I-NE-0533-AA

Comments: 5000 sq. ft., needs repair, off-site use only

New york

Bldg. 3

VA Medical Center

Batavia Co: Genesee NY 14020

Landholding Agency: VA

Property Number: 97200520001

Status: Unutilized

Comments: 5840 sq. ft., needs rehab, presence of asbestos, most recent use—offices, eligible for Natl Register of Historic Places

Suitable /Available properties

Building

Washington

Bldg. 127

Yakima Project 1917 Marsh Road

Yakima WA 98901

Landholding Agency: Interior

Property Number: 61200630015

Status: Excess

Comments: 1152 sq. ft., most recent use—office, off-site use only

Bldg. 133

Yakima Project 1917 Marsh Road

Yakima WA 98901

Landholding Agency: Interior

Property Number: 61200630016

Status: Excess

Comments: 1680 sq. ft., most recent use—office, off-site use only

Residence

Riverside Road

Yakima WA 98901

Landholding Agency: Interior

Property Number: 61200710010

Status: Unutilized

Comments: 756 sq. ft., off-site use only

Suitable /Available Properties

Building

Washington

Bldg. 1933

50 Acre Drive

Eltopia WA 99330

Landholding Agency: Interior

Property Number: 61200720006

Status: Unutilized

Comments: 709 sq. ft., most recent use—residence, possible asbestos/lead paint, off-site use only

Bldg. 1933g

50 Acre Drive

Eltopia WA 99330

Landholding Agency: Interior

Property Number: 61200720007

Status: Unutilized

Comments: 264 sq. ft., most recent use—garage, possible asbestos/lead paint, off-site use only

Bldg. 1934

40 Acre Drive

Eltopia WA

Landholding Agency: Interior

Property Number: 61200720008

Status: Unutilized

Comments: 709 sq. ft., most recent use—residence, possible asbestos/lead paint, off-site use only

Bldg. 1934g

40 Acre Drive

Eltopia WA 99330

Landholding Agency: Interior

Property Number: 61200720009

Status: Unutilized

Comments: 264 sq. ft., most recent use—garage, possible asbestos/lead paint, off-site use only

Suitable/Available Properties

Building

Wisconsin

Bldg. 8

VA Medical Center

County Highway E

Tomah Co: Monroe WI 54660

Landholding Agency: VA

Property Number: 97199010056

Status: Underutilized

Comments: 2200 sq. ft., 2 story wood frame, possible asbestos, potential utilities, structural deficiencies, needs rehab.

Land

Alabama

VA Medical Center

VAMC

Tuskegee Co: Macon AL 36083

Landholding Agency: VA

Property Number: 97199010053

Status: Underutilized

Comments: 40 acres, buffer to VA Medical Center, potential utilities, undeveloped.

Suitable/Available Properties

Land

California

Land

4150 Clement Street

San Francisco Co: San Francisco CA

94121

Landholding Agency: VA

Property Number: 97199240001

Status: Underutilized

Comments: 4 acres; landslide area.

Colorado

Northgate Stockpile Storage

Jackson CO 80480

Landholding Agency: GSA

Property Number: 54200740011

Status: Surplus

GSA Number: 7-D-CO-0645

Comments: 16.11 acres, uneven terrain, no utilities, restrictions/covenants

Iowa

40.66 acres

VA Medical Center

1515 West Pleasant St.

Knoxville Co: Marion IA 50138

Landholding Agency: VA

Property Number: 97199740002

Status: Unutilized

Comments: golf course, easement requirements

Suitable/Available Properties

Land

Maryland

3.54 acres

Andrews AFB

Upper Marlboro MD

Landholding Agency: GSA

Property Number: 54200810005

Status: Surplus

GSA Number: MD(R-11)0598-1

Comments: strip parcel of land w/limited development potential

North Dakota

14 Former Launch

Control Facilities

Grand Forks AFB

Grand Forks ND

Landholding Agency: GSA

Property Number: 54200810006

Status: Surplus

GSA Number: 7-D-ND-0500

Comments: 10.17 acres each, contaminants, easements, farmland restrictions/wetland restrictions

South Dakota

40 Acres—N-2

Minuteman Missile Site

Butte SD

Landholding Agency: GSA

Property Number: 54200740008

Status: Surplus

GSA Number: 7-D-SD-0521-HA

Comments: restrictions & covenants

Suitable/Available Properties

Land

South Dakota

40 acres—Mike 4

Minuteman Missile Launch Facility

Butte SD 57706

Landholding Agency: GSA

Property Number: 54200740009

Status: Surplus

GSA Number: 7-D-SD-0521-GZ

Comments: restrictions & covenants

Texas

Land

Olin E. Teague Veterans Center

1901 South 1st Street

Temple Co: Bell TX 76504

Landholding Agency: VA

Property Number: 97199010079

Status: Underutilized

Comments: 13 acres, portion formerly landfill, portion near flammable materials, railroad crosses property, potential utilities.

Washington

Bremerton Lot

E. 16th & Trenton Ave

Kitsap WA 98310

Landholding Agency: GSA

Property Number: 54200740012

Status: Excess

GSA Number: 9-G-WA-1237

Comments: 1500 sq. ft., small size

Suitable/Available Properties

Land

Wisconsin

VA Medical Center

County Highway E

Tomah Co: Monroe WI 54660

Landholding Agency: VA

Property Number: 97199010054

Status: Underutilized

Comments: 12.4 acres, serves as buffer between center and private property, no utilities.

Suitable/Unavailable Properties

Building

Alabama

SSA Building

201 College Street

Gadsden AL 35901

Landholding Agency: GSA

Property Number: 54200730013

Status: Surplus

GSA Number: 4-G-AL-0773

Comments: Single story structure w/parking, presence of asbestos, most recent use—office, to be vacant 11/2007

Suitable/Unavailable Properties

Building

California

Social Security Building

505 North Court Street

Visalia Co: Tulare CA 93291

Landholding Agency: GSA

Property Number: 54200610010

Status: Surplus

GSA Number: 9-G-CA-1643

Comments: 11,727 sq. ft., possible lead paint, most recent use—office

Old Customs House

12 Heffernan Avenue

Calexico CA 92231

Landholding Agency: GSA

Property Number: 54200710016

Status: Surplus

GSA Number: 9-G-CA-1658

Comments: 16,108 sq. ft., possible asbestos/lead paint, zoned commercial, major repairs for long term use, historic building

Colorado

Federal Building

1520 E. Willamette Street

Colorado Springs Co: El Paso CO 80909

Landholding Agency: GSA

Property Number: 54200640004

Status: Excess

GSA Number: 7-G-CO-0660

Comments: 50,363 sq. ft., needs major rehab, available in approx. 24 months, legal constraints

Suitable/Unavailable Properties

Building

Hawaii

Bldg. 2652

Navy Aloha Center

Pearl Harbor HI 96860

Landholding Agency: Navy

Property Number: 77200710039

Status: Underutilized

Comments: 9125 sq. ft., most recent use—office

Indiana

Former SSA

327 W. Marion Street

Elkhart IN 46516

Landholding Agency: GSA

Property Number: 54200630015

Status: Surplus

GSA Number: 1-GR-IN-05962A

Comments: 6636 sq. ft., most recent use—office

Fed. Bldg./Courthouse

507 State Street

Hammond IN 46320

Landholding Agency: GSA

Property Number: 54200710003

Status: Excess

GSA Number: 1-G-IN-590

Comments: 43,133 sq. ft., presence of asbestos, most recent use—office, National Register of Historic Places

Suitable/Unavailable Properties

Building

Iowa

Federal Bldg./P.O./Courthouse

8 South 6th Street

Council Bluffs Co: Pottawattamie IA 51501

Landholding Agency: GSA

Property Number: 54200640001

Status: Excess

GSA Number: 7-G-IA-0468-1

Comments: 67,298 sq. ft., to be vacant 12/31/08, needs rehab—estimated cost $2 million

Maine

Border Patrol Station

4 Heald Stream Road

Somerset ME 04945

Landholding Agency: GSA

Property Number: 54200730003

Status: Excess

GSA Number: 1-X-ME-0685-2A

Comments: 1717 sq. ft., office and garage, possible asbestos/lead paint

Maryland

Former USPO/Office Bldg.

2 West Montgomery Avenue

Rockville MD 20850

Landholding Agency: GSA

Property Number: 54200710018

Status: Surplus

GSA Number: MD-598-1

Comments: 7430 sq. ft., roof leaks, property use restrictions, groundwater use prohibition

Suitable/Unavailable Properties

Building

Massachusetts

Former Railroad Depot

240 Central Street

Lowell MA 01852

Landholding Agency: GSA

Property Number: 54200730015

Status: Excess

GSA Number: 1-I-MA-910

Comments: 11,200 sq. ft., estimated $1 million required for interior and mechanical systems, subject to Historic Preservation Standards

Federal Office Bldg.

Main & Bridge Street

Springfield MA 01101

Landholding Agency: GSA

Property Number: 54200740002

Status: Excess

GSA Number: MA-6262-1

Comments: 30,000 sq. ft., 27% occupied, recommend complete system upgrade

Michigan

Social Security Bldg.

929 Stevens Road

Flint MI 48503

Landholding Agency: GSA

Property Number: 54200720020

Status: Excess

GSA Number: 1-G-MI-822

Comments: 10,283 sq. ft., most recent use—office

Suitable/Unavailable Properties

Building

Minnesota

Memorial Army Rsv Ctr

1804 3rd Avenue

International Falls Co: Koochiching MN 56649

Landholding Agency: GSA

Property Number: 54200620002

Status: Excess

GSA Number: 1-D-MN-586

Comments: 8992 sq. ft., presence of asbestos/lead paint, most recent use—admin/storage

Mississippi

Federal Building

200 East Washington St.

Greenwood MS 38930

Landholding Agency: GSA

Property Number: 54200740006

Status: Underutilized

GSA Number: 4-G-MS-0562

Comments: 11134 sq. ft., presence of asbestos, reserve a 24 month period to relocate Federal tenants

Montana

Sonstelie Hall USARC

1110 2nd St.

Kalispell MT 59901-4202

Landholding Agency: GSA

Property Number: 54200740003

Status: Excess

GSA Number: 7-D-MT-0625

Comments: 14,635 sq ft., most recent use—admin/classrooms/storage, subject to easements

Suitable/Unavailable Properties

Building

Montana

VA MT Healthcare

210 S. Winchester

Miles City Co: Custer MT 59301

Landholding Agency: VA

Property Number: 97200030001

Status: Underutilized

Comments: 18 buildings, total sq. ft. = 123,851, presence of asbestos, most recent use—clinic/office/food production

Nevada

Young Fed Bldg/Courthouse

300 Booth Street

Reno NV 89502

Landholding Agency: GSA

Property Number: 54200620014

Status: Surplus

GSA Number: 9-G-NV-529-2

Comments: 85,637 sq. ft. available, presence of asbestos/lead paint, seismic issues

New Hampshire

Modular Offices 43006/43007

271 Mast Road

Durham NH 03824

Landholding Agency: GSA

Property Number: 54200730004

Status: Surplus

GSA Number: 1-A-NH-0497-1A

Comments: 684 sq. ft. each, most recent use—office space, off-site use only

Suitable/Unavailable Properties

Building

New Jersey

Camp Petricktown Sup. Facility

US Route 130

Pedricktown NJ 08067

Landholding Agency: GSA

Property Number: 54200740005

Status: Excess

GSA Number: 1-I-MA-910

Comments: 21 bldgs., need rehab, most recent use—barracks/mess hall/garages/quarters/admin., may be issues w/right of entry, utilities privately controlled, contaminants

New Mexico

Federal Building

1100 New York Ave.

Alamogordo Co: Otero NM 88310

Landholding Agency: GSA

Property Number: 54200630001

Status: Surplus

GSA Number: 7-G-NM-0569

Comments: 12,690 sq. ft., subject to Historic preservation covenants, occupied until 9/30/08

New York

Tappan USARC

335 Western Hwy

Tappan Co: Rockland NY 10983

Landholding Agency: GSA

Property Number: 21200510069

Status: Excess

GSA Number: 0000

Comments: 33,537 sq. ft., army reserve center

Suitable/Unavailable Properties

Building

New York

Fleet Mgmt. Center

5—32nd Street

Brooklyn NY 11232

Landholding Agency: GSA

Property Number: 54200620015

Status: Surplus

GSA Number: 1-G-NY-0872B

Comments: 12,693 sq. ft., most recent use—motor pool, heavy industrial

8 Family Apt. Bldgs.

Watervliet Arsenal Housing 325 Duanesburg Road

Rotterdam Co: Schenectady NY

Landholding Agency: GSA

Property Number: 54200630011

Status: Excess

GSA Number: 1-D-NY-0877

Comments: 8 multi family apt. bldgs. w/garages and 1 maintenance shop, presence of asbestos/lead paint

North Carolina

USCG Station Bldgs.

Cape Hatteras

Buxton Co: Dare NC

Landholding Agency: GSA

Property Number: 54200720002

Status: Excess

GSA Number: 4-U-NC-0747A

Comments: 5 bldgs./11 Other structures, contamination

Suitable/Unavailable Properties

Building

North Dakota

Residence #1

Hwy 30/Canadian Border

St. John Co: Rolette ND 58369

Landholding Agency: GSA

Property Number: 54200620005

Status: Excess

GSA Number: 7-G-ND-0504

Comments: 1300 sq. ft., possible asbestos/lead paint, off-site use only

Residence #2

Hwy 30/Canadian Border

St. John Co: Rolette ND 58369

Landholding Agency: GSA

Property Number: 54200620006

Status: Excess

GSA Number: 7-G-ND-0505

Comments: 1300 sq. ft., possible asbestos/lead paint, off-site use only

Residence #1

Hwy 42/Canadian Border

Ambrose Co: Divide ND 58833

Landholding Agency: GSA

Property Number: 54200620012

Status: Excess

GSA Number: 7-G-ND-0510

Comments: 2010 sq. ft., possible lead paint, most recent use—residential/office/storage, off site use only

Suitable/Unavailable Properties

Building

North Dakota

Residence #2

Hwy 42/Canadian Border

Ambrose Co: Divide ND 58833

Landholding Agency: GSA

Property Number: 54200620013

Status: Excess

GSA Number: 7-G-ND-0509

Comments: 2010 sq. ft., possible lead paint, most recent use—residential/office/storage, off site use only

Sherwood Garage

Hwy 28

Sherwood Co: Renville ND 58782

Landholding Agency: GSA

Property Number: 54200630002

Status: Surplus

GSA Number: 7-G-ND-0512

Comments: 565 sq. ft., off-site use only

Noonan Garage

Hwy 40

Noonan Co: Divide ND 58765

Landholding Agency: GSA

Property Number: 54200630003

Status: Surplus

GSA Number: 7-G-ND-0511

Comments: 520 sq. ft., presence of asbestos, off-site use only

Suitable/Unavailable Properties

Building

North Dakota

Westhope Garage

Hwy 83

Westhope Co: Bottineau ND 58793

Landholding Agency: GSA

Property Number: 54200630004

Status: Surplus

GSA Number: 7-G-ND-0513

Comments: 515 sq. ft., off-site use only

North House

10951 County Road

Hannah Co: Cavalier ND 58239

Landholding Agency: GSA

Property Number: 54200720008

Status: Surplus

GSA Number: 7-X-ND-0515-1A

Comments: 1128 sq. ft. residence, off-site use only

South House

10949 County Road

Hannah Co: Cavalier ND 58239

Landholding Agency: GSA

Property Number: 54200720009

Status: Surplus

GSA Number: 7-X-ND-0515-1B

Comments: 1128 sq. ft. residence, off-site use only

Suitable/Unavailable Properties

Building

North Dakota

North House

Highway 40

Noonan Co: Divide ND 58765

Landholding Agency: GSA

Property Number: 54200720010

Status: Surplus

GSA Number: 7-X-ND-0517-1A

Comments: 1564 sq. ft. residence, off-site use only

South House

Highway 40

Noonan Co: Divide ND 58765

Landholding Agency: GSA

Property Number: 54200720011

Status: Surplus

GSA Number: 7-X-ND-0517-1B

Comments: 1564 sq. ft. residence, off-site use only

North House

Rt. 1, Box 66

Sarles Co: Cavalier ND 58372

Landholding Agency: GSA

Property Number: 54200720012

Status: Surplus

GSA Number: 7-X-ND-0516-1B

Comments: 1228 sq. ft. residence, off-site use only

Suitable/Unavailable Properties

Building

North Dakota

South House

Rt. 1, Box 67

Sarles Co: Cavalier ND 58372

Landholding Agency: GSA

Property Number: 54200720013

Status: Surplus

GSA Number: 7-X-ND-0516-1A

Comments: 1228 sq. ft. residence, off-site use only

House #1

10925 Hwy 28

Sherwood Co: Renville ND 58782

Landholding Agency: GSA

Property Number: 54200720014

Status: Surplus

GSA Number: 7-X-ND-0518-1B

Comments: 1228 sq. ft. residence, off-site use only

House #2

10927 Hwy 28

Sherwood Co: Renville ND 58782

Landholding Agency: GSA

Property Number: 54200720015

Status: Surplus

GSA Number: 7-X-ND-0518-1A

Comments: 1228 sq. ft. residence, off-site use only

Suitable/Unavailable Properties

Building

North Dakota

North House 10913 Hwy 83

Westhope Co: Bottineau ND 58793

Landholding Agency: GSA

Property Number: 54200720016

Status: Surplus

GSA Number: 7-X-ND-0519-1B

Comments: 1218 sq. ft. residence, off-site use only

South House

10909 Hwy 83

Westhope Co: Bottineau ND 58793

Landholding Agency: GSA

Property Number: 54200720017

Status: Surplus

GSA Number: 7-X-ND-0519-1A

Comments: 1218 sq. ft. residence, off-site use only

Ohio

Bldg. 116

VA Medical Center

Dayton Co: Montgomery OH 45428

Landholding Agency: VA

Property Number: 97199920002

Status: Unutilized

Comments: 3 floors, potential utilities, needs major rehab, presence of asbestos/lead paint, historic property

Suitable/Unavailable Properties

Building

Samoa

6 Housing Units

Lima & FA Streets

Tafuna AQ 96799

Landholding Agency: GSA

Property Number: 54200710001

Status: Surplus

GSA Number: 9-U-AS-002

Comments: 1722 or 1354 sq. ft., must negotiate long-term ground lease w/the Govt of American Samoa

Unit #25

Lima & FA Streets

Tafuna AQ

Landholding Agency: GSA

Property Number: 54200740001

Status: Surplus

GSA Number: 9-U-AS-002AB

Comments: 1722 sq. ft., presence of lead paint, most recent use—residential, off-site use only or negotiate ground lease with local govt.

Texas

Bldgs. 5, 6, 7

Federal Center

501 West Felix Street

Ft. Worth Co: Tarrant TX 76115

Landholding Agency: GSA

Property Number: 54200640002

Status: Excess

GSA Number: 7-G-TX-0767-3

Comments: 3 warehouses with concrete foundation, off-site use only

Suitable/Unavailable Properties

Building

Virginia

142.67 acres/7 Bldgs.

Pepermeir Hill Road

U.S. Geological Survey

Corbin VA 22446

Landholding Agency: GSA

Property Number: 54200630020

Status: Excess

GSA Number: 4-I-VA-0748

Comments: various sq. ft., most recent use—research/development/calibration lab/test measuring circuit

Wisconsin

Bldg. 2

VA Medical Center

5000 West National Ave.

Milwaukee WI 53295

Landholding Agency: VA

Property Number: 97199830002

Status: Underutilized

Comments: 133,730 sq. ft., needs rehab, presence of asbestos/lead paint, most recent use—storage

Suitable/Unavailable Properties

Land

Arizona

Parking Lot

322 n 2nd Ave.

Phoenix AZ 85003

Landholding Agency: GSA

Property Number: 54200740007

Status: Surplus

GSA Number: AZ-6293-1

Comments: approx. 21,000 sq. ft., parcel in OU3 study area for clean-up

Illinois

FAA Radar Communications

Link Repeater Site

11000 E Road

Momence IL 60954

Landholding Agency: GSA

Property Number: 54200710010

Status: Excess

GSA Number: 1-U-IL-0695

Comments: 3 acres, access to property via easement through adjacent landowner property

Iowa

Keokuk Radio Repeater Site

Tract 103

Lee IA 52632

Landholding Agency: GSA

Property Number: 54200730008

Status: Surplus

GSA Number: 7-D-IA-0507

Comments: 4.05 acres w/antenna tower, equipment shelter, subject to existing easements

Suitable/Unavailable Properties

Land

Iowa

Kingston Radio Repeater Site

Tract 102

Des Moines IA 52637

Landholding Agency: GSA

Property Number: 54200730009

Status: Surplus

GSA Number: 7-D-IA-0506

Comments: 4.05 acres w/antenna tower, equipment shelter, subject to existing easements

Saverton Radio Repeater Site

Tract 104

Ralls IA 63401

Landholding Agency: GSA

Property Number: 54200730010

Status: Surplus

GSA Number: 7-D-MO-0679

Comments: 4.05 acres w/antenna tower, equipment shelter, subject to existing easements

38 acres

VA Medical Center

1515 West Pleasant St.

Knoxville Co: Marion IA 50138

Landholding Agency: VA

Property Number: 97199740001

Status: Unutilized

Comments: Golf course

Suitable/Unavailable Properties

Land

Kentucky

Tract S-2

3301 Leestown Road

Lexington Co: Fayette KY 40511

Landholding Agency: GSA

Property Number: 54200630016

Status: Excess

GSA Number: 4-J-KY-0622

Comments: 40.2 acres/hayfield, potential of sinkholes, potential contamination from adjacent site

Tract V—Parcel B

3301 Leestown Road

Lexington KY 40511

Landholding Agency: GSA

Property Number: 54200730002

Status: Excess

GSA Number: 4-G-KY-0528-1B

Comments: 52 acres w/landfill monitored by Bureau of Prisons IAW Kentucky Dept. of Env. Protection regulations

Michigan

VA Medical Center

5500 Armstrong Road

Battle Creek Co: Calhoun MI 49016

Landholding Agency: VA

Property Number: 97199010015

Status: Underutilized

Comments: 20 acres, used as exercise trails and storage areas, potential utilities.

Suitable/Unavailable Properties

Land

New Hampshire

Blackburn Tract

Harding St.

Berlin NH 03246

Landholding Agency: GSA

Property Number: 54200730012

Status: Surplus

GSA Number: 1-A-NH-0498-1A

Comments: 0.11 acre

New Mexico

Portion/Medical Center

2820 Ridgecrest

Albuquerque Co: Bernalillo NM 87103

Landholding Agency: GSA

Property Number: 54200620003

Status: Unutilized

GSA Number: 7-GR-NM-04212A

Comments: 7.4 acres—vacant land

Oklahoma

Tracts 107, 202

Candy Lake Project

Osage OK

Landholding Agency: GSA

Property Number: 54200710004

Status: Surplus

GSA Number: 7-D-OK-0529-1-F, U

Comments: 604.92 acres, cattle grazing

Suitable/Unavailable Properties

Land

Pennsylvania

VA Medical Center

New Castle Road

Butler Co: Butler PA 16001

Landholding Agency: VA

Property Number: 97199010016

Status: Underutilized

Comments: Approx. 9.29 acres, used for patient recreation, potential utilities.

Land No. 645

VA Medical Center

Highland Drive

Pittsburgh Co: Allegheny PA 15206

Landholding Agency: VA

Property Number: 97199010080

Status: Unutilized

Directions:

Between Campania and Wiltsie Streets.

Comments: 90.3 acres, heavily wooded, property includes dump area and numerous site storm drain outfalls.

Land—34.16 acres

VA Medical Center

1400 Black Horse Hill Road

Coatesville Co: Chester PA 19320

Landholding Agency: VA

Property Number: 97199340001

Status: Underutilized

Comments: 34.16 acres, open field, most recent use—recreation/buffer

Suitable/Unavailable Properties

Land

Tennessee

Army Rsv Training Area

6510 Bonny Oaks Dr.

Chattanooga Co: Hamilton TN 37416

Landholding Agency: GSA

Property Number: 54200630006

Status: Surplus

GSA Number: 4-D-TN-05946A

Comments: 80+ acres, contains 5.6 acre retention pond, easements present, may flood periodically

Unsuitable Properties

Building

Alabama

Bldg. 7

VA Medical Center

Tuskegee Co: Macon AL 36083

Landholding Agency: VA

Property Number: 97199730001

Status: Underutilized

Reasons: Secured Area

Bldg. 8

VA Medical Center

Tuskegee Co: Macon AL 36083

Landholding Agency: VA

Property Number: 97199730002

Status: Underutilized

Reasons: Secured Area

Unsuitable Properties

Building

Alaska

Bldgs. B-1, B-2, B-3, B-4

McGrath Airport

McGrath AK 99627

Landholding Agency: Commerce

Property Number: 27200810003

Status: Excess

Reasons: Within airport runway clear zone

Admin. Site

624 Mill St.

Ketchikan Co: Gateway AK 99901

Landholding Agency: GSA

Property Number: 54200740004

Status: Excess

GSA Number: 9-I-AK-6296-1

Reasons: Within 2000 ft. of flammable or explosive material

Radar Tower

Potato Point Comm Site

Valdez AK

Landholding Agency: Coast Guard

Property Number: 88200710001

Status: Excess

Reasons: Secured Area Within 2000 ft. of flammable or explosive material Not accessible by road

Unsuitable Properties

Building

Alaska

Radar Tower

Spit Site Comm Site

Valdez AK

Landholding Agency: Coast Guard

Property Number: 88200710002

Status: Excess

Reasons: Secured Area

Bldgs. K07, K15

Air Station

Sitka AK 99835

Landholding Agency: Coast Guard

Property Number: 88200730001

Status: Unutilized

Reasons: Extensive deterioration

Arizona

Bldg. 1509

National Park

Grand Canyon AZ 86023

Landholding Agency: Interior

Property Number: 61200740002

Status: Unutilized

Reasons: Extensive deterioration

Unsuitable Properties

Building

California

Bldgs. M03, M014, M017

Sandia National Lab

Livermore Co: Alameda CA 94550

Landholding Agency: Energy

Property Number: 41200220001

Status: Excess

Reasons: Extensive deterioration

Bldgs. C920, C921, C922

Sandia Natl Laboratories

Livermore Co: Alameda CA 94551

Landholding Agency: Energy

Property Number: 41200540001

Status: Unutilized

Reasons: Secured Area

Extensive deterioration

Bldg. 175

Livermore National Lab

Livermore CA

Landholding Agency: Energy

Property Number: 41200630001

Status: Excess

Reasons: Secured Area Within 2000 ft. of flammable or explosive material

Unsuitable Properties

Building

California

Trailer 1403

Livermore National Lab

Livermore CA

Landholding Agency: Energy

Property Number: 41200630003

Status: Excess

Reasons: Within 2000 ft. of flammable or explosive material Secured Area

Trailer 3703

Livermore National Lab

Livermore CA

Landholding Agency: Energy

Property Number: 41200630004

Status: Excess

Reasons: Within 2000 ft. of flammable or explosive material Secured Area

Bldg. 363

National Laboratory

Livermore CA

Landholding Agency: Energy

Property Number: 41200710001

Status: Excess

Reasons: Secured Area

Unsuitable Properties

Building

California

Bldgs. 436, 446

National Laboratory

Livermore CA

Landholding Agency: Energy

Property Number: 41200710002

Status: Excess

Reasons: Secured Area

Bldg. 3520

National Laboratory

Livermore CA

Landholding Agency: Energy

Property Number: 41200710003

Status: Excess

Reasons: Secured Area, Within 2000 ft. of flammable or explosive material

Bldgs. 4182, 4184, 4187

National Laboratory

Livermore CA

Landholding Agency: Energy

Property Number: 41200710004

Status: Excess

Reasons: Secured Area, Within 2000 ft. of flammable or explosive material

Unsuitable Properties

Building

California

Bldg. 5974

National Laboratory

Livermore CA

Landholding Agency: Energy

Property Number: 41200710005

Status: Excess

Reasons: Within 2000 ft. of flammable or explosive material Secured Area

Bldgs. 194A, 198

Lawrence Livermore Natl Lab

Livermore CA

Landholding Agency: Energy

Property Number: 41200720007

Status: Excess

Reasons: Within 2000 ft. of flammable or explosive material Secured Area

Bldgs. 213, 280

Lawrence Livermore Natl Lab

Livermore CA

Landholding Agency: Energy

Property Number: 41200720008

Status: Excess

Reasons: Secured Area Within 2000 ft. of flammable or explosive material

Unsuitable Properties

Building

California

Bldgs. 312, 345

Lawrence Livermore Natl Lab

Livermore CA

Landholding Agency: Energy

Property Number: 41200720009

Status: Excess

Reasons: Secured Area Within 2000 ft. of flammable or explosive material

Bldgs. 2177, 2178

Lawrence Livermore Natl Lab

Livermore CA

Landholding Agency: Energy

Property Number: 41200720010

Status: Excess

Reasons: Secured Area Within 2000 ft. of flammable or explosive material

Bldgs. 2687, 3777

Lawrence Livermore Natl Lab

Livermore CA

Landholding Agency: Energy

Property Number: 41200720011

Status: Excess

Reasons: Secured Area Within 2000 ft. of flammable or explosive material

Unsuitable Properties

Building

California

Bldgs. 263, 419

Lawrence Livermore Natl Lab

Livermore CA

Landholding Agency: Energy

Property Number: 41200720012

Status: Excess

Reasons: Secured Area Within 2000 ft. of flammable or explosive material

Bldgs. 1401, 1402, 1404

Lawrence Livermore Natl Lab

Livermore CA

Landholding Agency: Energy

Property Number: 41200720013

Status: Excess

Reasons: Secured Area Within 2000 ft. of flammable or explosive material

Bldgs. 1405, 1406, 1407

Lawrence Livermore Natl Lab

Livermore CA

Landholding Agency: Energy

Property Number: 41200720014

Status: Excess

Reasons: Secured Area Within 2000 ft. of flammable or explosive material

Unsuitable Properties

Building

California

Bldgs. 1408, 1413, 1456

Lawrence Livermore Natl Lab

Livermore CA

Landholding Agency: Energy

Property Number: 41200720015

Status: Excess

Reasons: Secured Area Within 2000 ft. of flammable or explosive material

Bldg. 2684

Lawrence Livermore Natl Lab

Livermore CA

Landholding Agency: Energy

Property Number: 41200720016

Status: Excess

Reasons: Secured Area Within 2000 ft. of flammable or explosive material

Bldg. CM46A

Sandia Natl Lab

Livermore CA 94551

Landholding Agency: Energy

Property Number: 41200730005

Status: Excess

Reasons: Secured Area

Unsuitable Properties

Building

California

Bldgs. 445, 534

Lawrence Livermore Natl Lab

Livermore CA

Landholding Agency: Energy

Property Number: 41200740001

Status: Excess

Reasons: Secured Area, Within 2000 ft. of flammable or explosive material

4 Bldgs.

Lawrence Livermore Natl Lab 802A, 811, 830, 854A

Livermore CA

Landholding Agency: Energy

Property Number: 41200740002

Status: Excess

Reasons: Secured Area, Within 2000 ft. of flammable or explosive material

Bldgs. 8806, 8710, 8711

Lawrence Livermore Natl Lab

Livermore CA

Landholding Agency: Energy

Property Number: 41200740003

Status: Excess

Reasons: Secured Area, Within 2000 ft. of flammable or explosive material

Unsuitable Properties

Building

California

Bldgs. 1492, 1526, 1579

Lawrence Livermore

National Lab

Livermore CA

Landholding Agency: Energy

Property Number: 41200740005

Status: Excess

Reasons: Secured Area

Bldgs. 1601, 1632

Lawrence Livermore

National Lab

Livermore CA

Landholding Agency: Energy

Property Number: 41200740006

Status: Excess

Reasons: Secured Area

Bldgs. 2552, 2685, 2728

Lawrence Livermore

National Lab

Livermore CA

Landholding Agency: Energy

Property Number: 41200740007

Status: Excess

Reasons: Secured Area

Unsuitable Properties

Building

California

Bldgs. 2801, 2802

Lawrence Livermore

National Lab

Livermore CA

Landholding Agency: Energy

Property Number: 41200740008

Status: Excess

Reasons: Secured Area

Bldgs. 3175, 3751, 3775

Lawrence Livermore

National Lab

Livermore CA

Landholding Agency: Energy

Property Number: 41200740009

Status: Excess

Reasons: Secured Area

4 Bldgs.

Lawrence Livermore

National Lab

Livermore CA

Landholding Agency: Energy

Property Number: 41200740010

Status: Excess

Directions: 4161, 4316, 4384, 4388

Reasons: Secured Area

Unsuitable Properties

Building

California

Bldgs. 4406, 4475

Lawrence Livermore

National Lab

Livermore CA

Landholding Agency: Energy

Property Number: 41200740011

Status: Excess

Reasons: Secured Area

Bldgs. 4905, 4906, 4926

Lawrence Livermore

National Lab

Livermore CA

Landholding Agency: Energy

Property Number: 41200740012

Status: Excess

Reasons: Secured Area

Bldg. 5425

Lawrence Livermore

National Lab

Livermore CA

Landholding Agency: Energy

Property Number: 41200740013

Status: Excess

Reasons: Secured Area

Unsuitable Properties

Building

California

Bldg. 358

Sequoia National Park

Three Rivers CA 93271

Landholding Agency: Interior

Property Number: 61200710003

Status: Unutilized

Reasons: Extensive deterioration

Bldg. 800

National Park

Yosemite CA 95389

Landholding Agency: Interior

Property Number: 61200740003

Status: Unutilized

Reasons: Extensive deterioration

Bldg. 2533

Marine Corps Base

Camp Pendleton CA 92055

Landholding Agency: Navy

Property Number: 77200520005

Status: Excess

Reasons: Extensive deterioration Secured Area

Unsuitable Properties

Building

California

Bldg. 13111

Marine Corps Base

Camp Pendleton CA 92055

Landholding Agency: Navy

Property Number: 77200520006

Status: Excess

Reasons: Extensive deterioration Secured Area

Bldgs. 53325, 53326

Marine Corps Base

Camp Pendleton CA 92055

Landholding Agency: Navy

Property Number: 77200520007

Status: Excess

Reasons: Extensive deterioration Secured Area

5 Bldgs.

Marine Corps Base

53421, 53424 thru 53427

Camp Pendleton CA 92055

Landholding Agency: Navy

Property Number: 77200520008

Status: Excess

Reasons: Extensive deterioration Secured Area

Unsuitable Properties

Building

California

Bldgs. 61311, 61313, 61314

Marine Corps Base

Camp Pendleton CA 92055

Landholding Agency: Navy

Property Number: 77200520009

Status: Excess

Reasons: Extensive deterioration Secured Area

Bldgs. 61320-61324, 61326

Marine Corps Base

Camp Pendleton CA 92055

Landholding Agency: Navy

Property Number: 77200520010

Status: Excess

Reasons: Extensive deterioration Secured Area

Bldgs. 62711 thru 62717

Marine Corps Base

Camp Pendleton CA 92055

Landholding Agency: Navy

Property Number: 77200520011

Status: Excess

Reasons: Extensive deterioration Secured Area

Unsuitable Properties

Building

California

Bldgs. 4

Naval Submarine Base

Point Loma CA

Landholding Agency: Navy

Property Number: 77200520014

Status: Unutilized

Reasons: Extensive deterioration

Bldgs. 8915, 8931

Naval Weapons Station

Seal Beach CA 90740

Landholding Agency: Navy

Property Number: 77200530004

Status: Excess

Reasons: Extensive deterioration

Bldgs. 11, 112

Naval Weapons Station

Seal Beach CA 90740

Landholding Agency: Navy

Property Number: 77200530005

Status: Unutilized

Reasons: Extensive deterioration

Bldg. 805

Naval Weapons Station

Seal Beach CA 90740

Landholding Agency: Navy

Property Number: 77200530006

Status: Unutilized

Reasons: Extensive deterioration

Unsuitable Properties

Building

California

Bldgs. 810 thru 823

Naval Weapons Station

Seal Beach CA 90740

Landholding Agency: Navy

Property Number: 77200530007

Status: Unutilized

Reasons: Extensive deterioration

Bldgs. 851, 859, 864

Naval Weapons Station

Seal Beach CA 90740

Landholding Agency: Navy

Property Number: 77200530008

Status: Unutilized

Reasons: Extensive deterioration

Bldg. 1146

Naval Base

Port Hueneme Co: Ventura CA 93042

Landholding Agency: Navy

Property Number: 77200530009

Status: Unutilized

Reasons: Extensive deterioration

Bldgs. 1370, 1371, 1372

Naval Base

Port Hueneme Co: Ventura CA 93042

Landholding Agency: Navy

Property Number: 77200530011

Status: Unutilized

Reasons: Extensive deterioration

Unsuitable Properties

Building

California

Bldg. 115

Naval Base

San Diego CA

Landholding Agency: Navy

Property Number: 77200530012

Status: Excess

Reasons: Extensive deterioration

Bldg. 1674

Marine Corps Base

Camp Pendleton, CA 92055

Landholding Agency: Navy

Property Number: 77200530027

Status: Excess

Reasons: Extensive deterioration, Secured Area

Bldgs. 2636, 2651, 2658

Marine Corps Base

Camp Pendleton CA 92055

Landholding Agency: Navy

Property Number: 77200530028

Status: Excess

Reasons: Extensive deterioration, Secured Area

Unsuitable Properties

Building

California

4 Bldgs.

Marine Corps Base

Camp Pendleton CA 92055

Landholding Agency: Navy

Property Number: 77200530029

Status: Excess

Directions: 26053, 26054, 26056, 26059

Reasons: Extensive deterioration, Secured Area

Bldgs. 53333, 53334

Marine Corps Base

Camp Pendleton CA 92055

Landholding Agency: Navy

Property Number: 77200530030

Status: Excess

Reasons: Extensive deterioration, Secured Area

Bldgs. 53507, 53569

Marine Corps Base

Camp Pendleton CA 92055

Landholding Agency: Navy

Property Number: 77200530031

Status: Excess

Reasons: Secured Area, Extensive deterioration

Unsuitable Properties

Building

California

Bldg. 170111

Marine Corps Base

Camp Pendleton CA 92055

Landholding Agency: Navy

Property Number: 77200530032

Status: Excess

Reasons: Extensive deterioration, Secured Area

Bldg. PM4-3

Naval Base

Oxnard Co: Ventura CA 93042

Landholding Agency: Navy

Property Number: 77200530033

Status: Unutilized

Reasons: Extensive deterioration

Bldg. 1781

Marine Corps Base

Camp Pendleton CA 92055

Landholding Agency: Navy

Property Number: 77200540001

Status: Excess

Reasons: Extensive deterioration, Secured Area

Unsuitable Properties

Building

California

Bldgs. 398, 399, 404

Naval Base Point Loma

San Diego CA

Landholding Agency: Navy

Property Number: 77200540003

Status: Unutilized

Reasons: Extensive deterioration

Bldgs. 388, 389, 390, 391

Naval Base Point Loma

San Diego CA

Landholding Agency: Navy

Property Number: 77200540004

Status: Unutilized

Reasons: Extensive deterioration

Bldg. 16

Naval Submarine Base

San Diego CA

Landholding Agency: Navy

Property Number: 77200540017

Status: Unutilized

Reasons: Within 2000 ft. of flammable or explosive material, Extensive deterioration, Secured Area

Unsuitable Properties

Building

California

Bldg. 325

Naval Base

Port Hueneme Co: Ventura CA 93043

Landholding Agency: Navy

Property Number: 77200610001

Status: Unutilized

Reasons: Within airport runway clear zone, Extensive deterioration, Secured Area

Bldgs. 1647, 1648

Marine Corps Base

Camp Pendleton CA 92055

Landholding Agency: Navy

Property Number: 77200610010

Status: Excess

Reasons: Extensive deterioration

Bldg. 1713

Marine Corps Base

Camp Pendleton CA 92055

Landholding Agency: Navy

Property Number: 77200610011

Status: Excess

Reasons: Extensive deterioration

Unsuitable Properties

Building

California

Bldg. 220189

Marine Corps Base

Camp Pendleton CA 92055

Landholding Agency: Navy

Property Number: 77200610014

Status: Excess

Reasons: Extensive deterioration

Bldg. 2295

Marine Corps Base

Camp Pendleton CA 92055

Landholding Agency: Navy

Property Number: 77200610015

Status: Excess

Reasons: Extensive deterioration

Bldgs. 22115, 22116, 22117

Marine Corps Base

Camp Pendleton CA 92055

Landholding Agency: Navy

Property Number: 77200610016

Status: Excess

Reasons: Extensive deterioration

Bldg. 143

Naval Air Station

Lemoore CA

Landholding Agency: Navy

Property Number: 77200610017

Status: Excess

Reasons: Extensive deterioration

Unsuitable Properties

Building

California

Bldgs. 213, 243, 273

Naval Air Station

Lemoore CA

Landholding Agency: Navy

Property Number: 77200610018

Status: Excess

Reasons: Extensive deterioration

Bldg. 303

Naval Air Station

Lemoore CA

Landholding Agency: Navy

Property Number: 77200610019

Status: Excess

Reasons: Extensive deterioration

Bldg. 471

Naval Air Station

Lemoore CA

Landholding Agency: Navy

Property Number: 77200610020

Status: Excess

Reasons: Extensive deterioration

Bldgs. 979, 928, 930

Naval Air Station

Lemoore CA

Landholding Agency: Navy

Property Number: 77200610021

Status: Excess

Reasons: Extensive deterioration

Unsuitable Properties

Building

California

Bldgs. 999, 1000

Naval Air Station

Lemoore CA

Landholding Agency: Navy

Property Number: 77200610022

Status: Excess

Reasons: Extensive deterioration

Bldgs. 305, 353

Naval Base Point Loma

San Diego CA

Landholding Agency: Navy

Property Number: 77200610023

Status: Unutilized

Reasons: Extensive deterioration

Bldgs. 358, 359, 360, 361

Naval Base Point Loma

San Diego CA

Landholding Agency: Navy

Property Number: 77200610024

Status: Unutilized

Reasons: Extensive deterioration

Bldg. 581

Naval Base Point Loma

San Diego CA

Landholding Agency: Navy

Property Number: 77200610026

Status: Unutilized

Reasons: Extensive deterioration

Unsuitable Properties

Building

California

Bldgs. A25, A27

Naval Base Point Loma

San Diego CA

Landholding Agency: Navy

Property Number: 77200610027

Status: Unutilized

Reasons: Extensive deterioration

Bldgs. 31926, 31927, 31928

Marine Corps Base

Camp Pendleton CA 92055

Landholding Agency: Navy

Property Number: 77200610058

Status: Excess

Reasons: Extensive deterioration

Bldg. 41326

Marine Corps Base

Camp Pendleton CA 92055

Landholding Agency: Navy

Property Number: 77200610059

Status: Excess

Reasons: Extensive deterioration

Bldg. 41816

Marine Corps Base

Camp Pendleton CA 92055

Landholding Agency: Navy

Property Number: 77200610060

Status: Excess

Reasons: Extensive deterioration

Unsuitable Properties

Building

California

Bldgs. 1468, 1469

Naval Base

Port Hueneme Co: Ventura CA 93043

Landholding Agency: Navy

Property Number: 77200630002

Status: Unutilized

Reasons: Secured Area

Bldg. 30869

Naval Air Weapons Station

China Lake CA 93555

Landholding Agency: Navy

Property Number: 77200630005

Status: Excess

Reasons: Extensive deterioration, Secured Area

Bldgs. 2-8, 3-10

Naval Base

Port Mugu Co: Ventura CA 93043

Landholding Agency: Navy

Property Number: 77200630009

Status: Unutilized

Reasons: Extensive deterioration, Secured Area

Unsuitable Properties

Building

California

Bldgs. 6-11, 6-12, 6-819

Naval Base

Port Mugu Co: Ventura CA 93043

Landholding Agency: Navy

Property Number: 77200630010

Status: Unutilized

Reasons: Extensive deterioration, Secured Area

Bldg. 85

Naval Base

Port Mugu Co: Ventura CA 93043

Landholding Agency: Navy

Property Number: 77200630011

Status: Unutilized

Reasons: Extensive deterioration, Secured Area

Bldgs. 120, 123

Naval Base

Port Mugu Co: Ventura CA 93043

Landholding Agency: Navy

Property Number: 77200630012

Status: Unutilized

Reasons: Extensive deterioration, Secured Area

Unsuitable Properties

Building

California

Bldg. 724

Naval Base

Port Mugu Co: Ventura CA 93043

Landholding Agency: Navy

Property Number: 77200630013

Status: Unutilized

Reasons: Extensive deterioration, Secured Area

Bldg. 764

Naval Base

Port Mugu Co: Ventura CA 93043

Landholding Agency: Navy

Property Number: 77200630014

Status: Unutilized

Reasons: Secured Area

Bldg. 115

Naval Base

Port Hueneme Co: Ventura CA 93042

Landholding Agency: Navy

Property Number: 77200630015

Status: Unutilized

Reasons: Extensive deterioration, Secured Area

Unsuitable Properties

Building

California

Bldg. 323

Naval Base

Port Hueneme Co: Ventura CA 93042

Landholding Agency: Navy

Property Number: 77200630016

Status: Unutilized

Reasons: Extensive deterioration, Secured Area

Bldg. 488

Naval Base

Port Hueneme Co: Ventura CA 93042

Landholding Agency: Navy

Property Number: 77200630017

Status: Unutilized

Reasons: Extensive deterioration, Secured Area

Bldg. 842

Naval Base

Port Hueneme Co: Ventura CA 93042

Landholding Agency: Navy

Property Number: 77200630018

Status: Unutilized

Reasons: Extensive deterioration, Secured Area

Unsuitable Properties

Building

California

Bldg. 927

Naval Base

Port Hueneme Co: Ventura CA 93042

Landholding Agency: Navy

Property Number: 77200630019

Status: Unutilized

Reasons: Extensive deterioration, Secured Area

Bldg. 1150

Naval Base

Port Hueneme Co: Ventura CA 93042

Landholding Agency: Navy

Property Number: 77200630020

Status: Unutilized

Reasons: Extensive deterioration, Secured Area

Bldg. 1361

Naval Base

Port Hueneme Co: Ventura CA 93042

Landholding Agency: Navy

Property Number: 77200630021

Status: Unutilized

Reasons: Extensive deterioration, Secured Area

Unsuitable Properties

Building

California

Bldg. PH546

Naval Base

Port Hueneme Co: Ventura CA 93043

Landholding Agency: Navy

Property Number: 77200640027

Status: Unutilized

Reasons: Extensive deterioration, Secured Area

Bldg. PH425

Naval Base

Port Hueneme Co: Ventura CA 93043

Landholding Agency: Navy

Property Number: 77200710001

Status: Unutilized

Reasons: Extensive deterioration, Secured Area

Bldg. PM 134

Naval Base

Point Mugu Co: Ventura CA 93043

Landholding Agency: Navy

Property Number: 77200710023

Status: Unutilized

Reasons: Extensive deterioration, Secured Area

Unsuitable Properties

Building

California

Bldgs. PH837, PH1372

Naval Base

Port Hueneme Co: Ventura CA 93043

Landholding Agency: Navy

Property Number: 77200710024

Status: Unutilized

Reasons: Extensive deterioration, Secured Area

Bldg. 523107

Marine Corps Base

Camp Pendleton CA 92055

Landholding Agency: Navy

Property Number: 77200710025

Status: Excess

Reasons: Extensive deterioration

6 Bldgs.

Marine Corps Base

Camp Pendleton CA 92055

Landholding Agency: Navy

Property Number: 77200710026

Status: Excess

Directions: 523112, 523113, 523114, 523115, 523116, 523117

Reasons: Extensive deterioration

Unsuitable Properties

Building

California

6 Bldgs.

Marine Corps Base

Camp Pendleton CA 92055

Landholding Agency: Navy

Property Number: 77200710027

Status: Excess

Directions: 523122, 523123, 523124, 523125, 523126, 523127

Reasons: Extensive deterioration

6 Bldgs.

Marine Corps Base

Camp Pendleton CA 92055

Landholding Agency: Navy

Property Number: 77200710028

Status: Excess

Directions: 523132, 523133, 523134, 523135, 523136, 523137

Reasons: Extensive deterioration

6 Bldgs.

Marine Corps Base

Camp Pendleton CA 92055

Landholding Agency: Navy

Property Number: 77200710029

Status: Excess

Directions: 523142, 523143, 523144, 523145, 523146, 523147

Reasons: Extensive deterioration

Unsuitable Properties

Building

California

Bldgs. 523156, 523157

Marine Corps Base

Camp Pendleton CA 92055

Landholding Agency: Navy

Property Number: 77200710030

Status: Excess

Reasons: Extensive deterioration

Bldg. 30726

Naval Air Weapons

China Lake CA 93555

Landholding Agency: Navy

Property Number: 77200710047

Status: Excess

Reasons: Secured Area

Bldgs. PH284, PH339

Naval Base

Port Hueneme Co: Ventura CA 93043

Landholding Agency: Navy

Property Number: 77200720001

Status: Unutilized

Reasons: Extensive deterioration, Secured Area

Unsuitable Properties

Building

California

Bldgs. PH805, PH1179

Naval Base

Port Hueneme Co: Ventura CA 93043

Landholding Agency: Navy

Property Number: 77200720002

Status: Unutilized

Reasons: Secured Area, Extensive deterioration

Bldgs. PH1207, PH1264, PH1288

Naval Base

Port Hueneme Co: Ventura CA 93043

Landholding Agency: Navy

Property Number: 77200720003

Status: Unutilized

Reasons: Secured Area, Extensive deterioration

Bldgs. PM 3-53, PM129, PM402

Naval Base

Port Mugu Co: Ventura CA 93043

Landholding Agency: Navy

Property Number: 77200720004

Status: Unutilized

Reasons: Secured Area, Extensive deterioration

Unsuitable Properties

Building

California

Bldg. LP908

Naval Base

Laguna Peak

Port Mugu Co: Ventura CA 93043

Landholding Agency: Navy

Property Number: 77200720005

Status: Unutilized

Reasons: Secured Area, Extensive deterioration

Bldg. PM790

Naval Base

Oxnard CA 93043

Landholding Agency: Navy

Property Number: 77200720006

Status: Unutilized

Reasons: Secured Area, Extensive deterioration

Bldg. 53402

Marine Corps Base

Camp Pendleton CA 92055

Landholding Agency: Navy

Property Number: 77200720007

Status: Excess

Reasons: Secured Area, Extensive deterioration

Unsuitable Properties

Building

California

Bldg. 307

Naval Base

San Diego CA

Landholding Agency: Navy

Property Number: 77200720009

Status: Excess

Reasons: Secured Area

Bldg. 3135

Naval Base

San Diego CA

Landholding Agency: Navy

Property Number: 77200720010

Status: Excess

Reasons: Secured Area

Bldgs. 30727, 31409

Naval Air Weapons Station

China Lake CA 93555

Landholding Agency: Navy

Property Number: 77200720011

Status: Excess

Reasons: Secured Area

Bldgs. 60142, 60158

Naval Base Coronado

San Clemente Island CA

Landholding Agency: Navy

Property Number: 77200720012

Status: Unutilized

Reasons: Not accessible by road, Extensive deterioration

Unsuitable Properties

Building

California

Bldgs. 60160, 60162, 60164

Naval Base Coronado

San Clemente Island CA

Landholding Agency: Navy

Property Number: 77200720013

Status: Unutilized

Reasons: Extensive deterioration

Bldgs. 60203, 60210, 60211

Naval Base Coronado

San Clemente Island CA

Landholding Agency: Navy

Property Number: 77200720014

Status: Unutilized

Reasons: Extensive deterioration

Bldgs. 60214, 60215

Naval Base Coronado

San Clemente Island CA

Landholding Agency: Navy

Property Number: 77200720015

Status: Unutilized

Reasons: Extensive deterioration

Bldgs. 60227, 60243, 60250

Naval Base Coronado

San Clemente Island CA

Landholding Agency: Navy

Property Number: 77200720016

Status: Unutilized

Reasons: Extensive deterioration

Unsuitable Properties

Building

California

Bldg. 60313

Naval Base Coronado

San Clemente Island CA

Landholding Agency: Navy

Property Number: 77200720017

Status: Unutilized

Reasons: Extensive deterioration

Bldg. 404

Naval Air Station

North Island CA

Landholding Agency: Navy

Property Number: 77200720032

Status: Unutilized

Reasons: Extensive deterioration

Bldg. 3267

Naval Base

San Diego CA

Landholding Agency: Navy

Property Number: 77200720039

Status: Unutilized

Reasons: Secured Area

Bldgs. 11090, 98033

Naval Air Weapons

China Lake CA 93555

Landholding Agency: Navy

Property Number: 77200720054

Status: Excess

Reasons: Secured Area

Extensive deterioration

Unsuitable Properties

Building

California

Bldgs. 41314, 41362

Marine Corps Base

Camp Pendleton CA 92055

Landholding Agency: Navy

Property Number: 77200720055

Status: Excess

Reasons: Extensive deterioration

Bldgs. 192, 193, 410

Naval Base

San Diego CA

Landholding Agency: Navy

Property Number: 77200720063

Status: Excess

Reasons: Secured Area

Bldg. 415

Naval Base

San Diego CA

Landholding Agency: Navy

Property Number: 77200730013

Status: Unutilized

Reasons: Secured Area

Bldgs. 3363, 3364

Naval Base

San Diego CA

Landholding Agency: Navy

Property Number: 77200730014

Status: Unutilized

Reasons: Secured Area

Unsuitable Properties

Building

California

4 Bldgs.

Naval Base 3185D, 3222, 3251, 3309

San Diego CA

Landholding Agency: Navy

Property Number: 77200730015

Status: Unutilized

Reasons: Secured Area

Portion/Bldg. T17

Naval Base Point Loma

San Diego CA

Landholding Agency: Navy

Property Number: 77200730016

Status: Underutilized

Reasons: Secured Area

Bldg. 297

Naval Base

San Diego CA

Landholding Agency: Navy

Property Number: 77200730017

Status: Unutilized

Reasons: Secured Area

Unsuitable Properties

Building

California

Bldgs. 13, 87

Naval Air Station

Coronado Co: San Diego CA

Landholding Agency: Navy

Property Number: 77200730022

Status: Excess

Reasons: Extensive deterioration, Secured Area

Bldg. 243

Naval Air Station

Coronado Co: San Diego CA

Landholding Agency: Navy

Property Number: 77200730023

Status: Excess

Reasons: Secured Area, Extensive deterioration

Bldg. 381

Naval Air Station

Coronado Co: San Diego CA

Landholding Agency: Navy

Property Number: 77200730024

Status: Excess

Reasons: Secured Area

Unsuitable Properties

Building

California

4 Bldgs.

Naval Air Station 493, 663, 682, 784

Coronado Co: San Diego CA

Landholding Agency: Navy

Property Number: 77200730025

Status: Excess

Reasons: Extensive deterioration, Secured Area

Bldg. 809

Naval Air Station

Landholding Agency: Navy

Property Number: 77200730026

Status: Excess

Reasons: Secured Area

Bldg. 983

Naval Air Station

Coronado Co: San Diego CA

Landholding Agency: Navy

Property Number: 77200730027

Status: Excess

Reasons: Secured Area

Unsuitable Properties

Building

California

Bldg. 1459

Naval Air Station

Landholding Agency: Navy

Property Number: 77200730028

Status: Excess

Reasons: Extensive deterioration, Secured Area

Bldg. 334

Naval Base

San Diego CA

Landholding Agency: Navy

Property Number: 77200730029

Status: Excess

Reasons: Secured Area

Bldgs. 124, 148

Naval Air Station

North Island CA

Landholding Agency: Navy

Property Number: 77200740002

Status: Excess

Reasons: Secured Area

Bldgs. 314, 341, 636

Naval Air Station

North Island CA

Landholding Agency: Navy

Property Number: 77200740003

Status: Excess

Reasons: Secured Area

Unsuitable Properties

Building

California

Bldgs. 710, 802, 826

Naval Air Station

North Island CA

Landholding Agency: Navy

Property Number: 77200740004

Status: Excess

Reasons: Secured Area

Bldgs. 60139, 60180

Naval Air Station

San Clemente CA

Landholding Agency: Navy

Property Number: 77200740005

Status: Excess

Reasons: Secured Area

Bldgs. 41313, 41314

Marine Corps Base

Camp Pendleton CA 92055

Landholding Agency: Navy

Property Number: 77200740006

Status: Excess

Reasons: Extensive deterioration, Secured Area

Unsuitable Properties

Building

California

4 Bldgs.

Marine Corps Base

41359, 41362, 41365, 41366

Camp Pendleton, CA 92055

Landholding Agency: Navy

Property Number: 77200740007

Reasons: Secured Area, Extensive deterioration

Bldg. 43976

Marine Corps Base

Camp Pendleton CA 92055

Landholding Agency: Navy

Property Number: 77200740008

Status: Excess

Reasons: Extensive deterioration, Secured Area

Bldgs. 53440, 53831

Marine Corps Base

Camp Pendleton CA 92055

Landholding Agency: Navy

Property Number: 77200740009

Status: Excess

Reasons: Extensive deterioration, Secured Area

Unsuitable Properties

Building

California

Bldg. 410365

Marine Corps Base

Camp Pendleton CA 92055

Landholding Agency: Navy

Property Number: 77200740010

Status: Excess

Reasons: Extensive deterioration, Secured Area

Bldg. 259

Naval Air Station

North Island CA

Landholding Agency: Navy

Property Number: 77200740015

Status: Excess

Reasons: Secured Area, Extensive deterioration

Bldg. 41356

Marine Corps Base

Camp Pendleton CA 92055

Landholding Agency: Navy

Property Number: 77200740017

Status: Excess

Reasons: Secured Area, Extensive deterioration

Unsuitable Properties

Building

California

Bldg. 84

Naval Base

San Diego CA

Landholding Agency: Navy

Property Number: 77200740018

Status: Excess

Reasons: Secured Area

Bldgs. 2537, 2538

Marine Corps Base

Camp Pendleton CA 92055

Landholding Agency: Navy

Property Number: 77200810009

Status: Excess

Reasons: Extensive deterioration

Bldgs. 43286, 43287

Marine Corps Base

Camp Pendleton CA 92055

Landholding Agency: Navy

Property Number: 77200810010

Status: Excess

Reasons: Extensive deterioration

Bldg. 33007

Naval Air Weapons Station

China Lake CA

Landholding Agency: Navy

Property Number: 77200810011

Status: Excess

Reasons: Within 2000 ft. of flammable or explosive material, Secured Area

Unsuitable Properties

Building

California

Quarters/Garages

Lighthouse Station

Trinidad CA 95570

Landholding Agency: Coast Guard

Property Number: 88200720001

Status: Unutilized

Reasons: Extensive deterioration

Connecticut

Bldgs. 25 and 26

Prospect Hill Road

Windsor Co: Hartford CT 06095

Landholding Agency: Energy

Property Number: 41199440003

Status: Excess

Reasons: Secured Area

9 Bldgs.

Knolls Atomic Power Lab, Windsor Site

Windsor Co: Hartford CT 06095

Landholding Agency: Energy

Property Number: 41199540004

Status: Excess

Reasons: Secured Area

Bldg. 8, Windsor Site

Knolls Atomic Power Lab

Windsor Co: Hartford CT 06095

Landholding Agency: Energy

Property Number: 41199830006

Status: Unutilized

Reasons: Extensive deterioration

Unsuitable Properties

Building

District of Columbia

Bldg. 396

Naval Support Facility

Anacostia Annex DC 20373

Landholding Agency: Navy

Property Number: 77200630008

Status: Unutilized

Reasons: Within 2000 ft. of flammable or explosive material, Secured Area

Florida

Tract 105-07

Peter Heebner Home

New Smyrna Beach FL

Landholding Agency: Interior

Property Number: 61200710004

Status: Unutilized

Reasons: Extensive deterioration

Bldgs. 421, 422

Everglades National Park

Flamingo District

Monroe FL

Landholding Agency: Interior

Property Number: 61200720012

Status: Unutilized

Reasons: Extensive deterioration

Unsuitable Properties

Building

Florida

Bldg. 701

Everglades National Park

Chekika

Monroe FL

Landholding Agency: Interior

Property Number: 61200720018

Status: Unutilized

Reasons: Extensive deterioration

Bldgs. 714A, 717

Everglades National Park

Chekika

Monroe FL

Landholding Agency: Interior

Property Number: 61200720019

Status: Unutilized

Reasons: Extensive deterioration

Waste Water Treatment Plant

Everglades National Park

Chekika

Monroe FL

Landholding Agency: Interior

Property Number: 61200720020

Status: Unutilized

Reasons: Extensive deterioration

Unsuitable Properties

Building

Florida

Bldg. U-150

Naval Air Station

Key West Co: Monroe FL 33040

Landholding Agency: Navy

Property Number: 77200520044

Status: Excess

Reasons: Secured Area, Extensive deterioration

Bldgs. V1221 A

Naval Air Station

Sigsbee Park

Key West Co: Monroe FL 33040

Landholding Agency: Navy

Property Number: 77200530013

Status: Unutilized

Reasons: Extensive deterioration, Secured Area

Bldg. 969

Naval Air Station

Jacksonville Co: Duval FL 32212

Landholding Agency: Navy

Property Number: 77200540014

Status: Unutilized

Reasons: Secured Area

Unsuitable Properties

Building

Florida

Bldgs. 1759, 1760

Naval Air Station

Jacksonville Co: Duval FL

Landholding Agency: Navy

Property Number: 77200540015

Status: Unutilized

Reasons: Secured Area

Bldg. 1917

Naval Air Station

Jacksonville Co: Duval FL 32212

Landholding Agency: Navy

Property Number: 77200540016

Status: Unutilized

Reasons: Secured Area

Bldgs. 1, 2

Naval Station

Mayport Co: Duval FL 32228

Landholding Agency: Navy

Property Number: 77200540018

Status: Excess

Reasons: Floodway, Secured Area, Extensive deterioration

Unsuitable Properties

Building

Florida

Bldg. 24

Naval Station

Mayport Co: Duval FL 32228

Landholding Agency: Navy

Property Number: 77200540019

Status: Excess

Reasons: Secured Area, Floodway, Extensive deterioration

Bldg. 66

Naval Station

Mayport Co: Duval FL 32228

Landholding Agency: Navy

Property Number: 77200540020

Status: Excess

Reasons: Extensive deterioration, Floodway, Secured Area

Bldg. 216

Naval Station

Mayport Co: Duval FL 32228

Landholding Agency: Navy

Property Number: 77200540021

Status: Excess

Reasons: Floodway, Secured Area, Extensive deterioration

Unsuitable Properties

Building

Florida

Bldgs. 437, 450

Naval Station

Mayport Co: Duval FL 32228

Landholding Agency: Navy

Property Number: 77200540022

Status: Excess

Reasons: Extensive deterioration, Floodway, Secured Area

Bldgs. 1234, 1235

Naval Station

Mayport Co: Duval FL 32228

Landholding Agency: Navy

Property Number: 77200540023

Status: Excess

Reasons: Floodway, Secured Area, Extensive deterioration

Bldg. 212

Naval Station

Mayport Co: Duval FL 32228

Landholding Agency: Navy

Property Number: 77200620011

Status: Unutilized

Reasons: Floodway, Extensive deterioration, Secured Area

Unsuitable Properties

Building

Florida

Bldg. 508

Naval Station

Mayport FL 32228

Landholding Agency: Navy

Property Number: 77200620035

Status: Unutilized

Reasons: Floodway, Secured Area

Bldg. 834

Naval Air Station

Pensacola Co: Escambia FL 32508

Landholding Agency: Navy

Property Number: 77200630022

Status: Unutilized

Reasons: Extensive deterioration

Bldg. 2658

Naval Air Station

Pensacola Co: Escambia FL 32508

Landholding Agency: Navy

Property Number: 77200630023

Status: Unutilized

Reasons: Extensive deterioration

Bldg. 3483

Naval Air Station

Pensacola Co: Escambia FL 32508

Landholding Agency: Navy

Property Number: 77200630024

Status: Unutilized

Reasons: Extensive deterioration

Unsuitable Properties

Building

Florida

Bldg. 6144

Naval Air Station

Pensacola Co: Escambia FL 32508

Landholding Agency: Navy

Property Number: 77200630025

Status: Unutilized

Reasons: Extensive deterioration

Bldg. F11

Naval Air Station

Key West FL 33040

Landholding Agency: Navy

Property Number: 77200630026

Status: Unutilized

Reasons: Extensive deterioration, Secured Area

Bldgs. A225, A409

Naval Air Station

Key West FL 33040

Landholding Agency: Navy

Property Number: 77200630027

Status: Unutilized

Reasons: Extensive deterioration, Secured Area

Unsuitable Properties

Building

Florida

Bldg. A515

Naval Air Station

Key West FL 33040

Landholding Agency: Navy

Property Number: 77200630028

Status: Unutilized

Reasons: Extensive deterioration, Secured Area

Bldg. A635

Naval Air Station

Key West FL 33040

Landholding Agency: Navy

Property Number: 77200630029

Status: Unutilized

Reasons: Extensive deterioration, Secured Area

Bldgs. A993, A994

Naval Air Station

Key West FL 33040

Landholding Agency: Navy

Property Number: 77200630030

Status: Unutilized

Reasons: Extensive deterioration, Secured Area

Unsuitable Properties

Building

Florida

Bldg. A1068

Naval Air Station

Key West FL 33040

Landholding Agency: Navy

Property Number: 77200630031

Status: Unutilized

Reasons: Extensive deterioration, Secured Area

Bldg. A4021

Naval Air Station

Key West FL 33040

Landholding Agency: Navy

Property Number: 77200630032

Status: Unutilized

Reasons: Extensive deterioration, Secured Area

Bldg. 4080

Naval Air Station

Key West FL 33040

Landholding Agency: Navy

Property Number: 77200630033

Status: Unutilized

Reasons: Extensive deterioration, Secured Area

Unsuitable Properties

Building

Florida

88 Facilities

Saufley Field

Pensacola FL 32508

Landholding Agency: Navy

Property Number: 77200740016

Status: Unutilized

Reasons: Within airport runway clear zone

Georgia

Bldg. 5101

Naval Submarine Base

Kings Bay Co: Camden GA 31547

Landholding Agency: Navy

Property Number: 77200520004

Status: Unutilized

Reasons: Secured Area, Floodway, Extensive deterioration

Bldg. 0038

Naval Submarine Base

Kings Bay GA 31547

Landholding Agency: Navy

Property Number: 77200620036

Status: Unutilized

Reasons: Secured Area, Extensive deterioration

Unsuitable Properties

Building

Georgia

7 Bldgs.

Marine Logistics Base

Albany GA

Landholding Agency: Navy

Property Number: 77200720040

Status: Excess

Directions: 7100, 7106, 7108, 7110, 5584, 7964, 7966

Reasons: Secured Area

Guam

Bldg. B-32

Naval Forces

Marianas GU

Landholding Agency: Navy

Property Number: 77200520023

Status: Unutilized

Reasons: Extensive deterioration

Bldgs. 76, 77, 79

Naval Forces

Marianas GU

Landholding Agency: Navy

Property Number: 77200520024

Status: Unutilized

Reasons: Extensive deterioration

Unsuitable Properties

Building

Guam

4 Bldgs.

Naval Forces 261, 262, 263, 269

Marianas GU

Landholding Agency: Navy

Property Number: 77200520025

Status: Unutilized

Reasons: Extensive deterioration

Bldg. 404NM

Naval Forces

Marianas GU

Landholding Agency: Navy

Property Number: 77200520026

Status: Unutilized

Reasons: Extensive deterioration

Bldgs. 3150, 3268

Naval Forces

Marianas GU

Landholding Agency: Navy

Property Number: 77200520030

Status: Unutilized

Reasons: Extensive deterioration

Bldgs. 5409, 5412, 5413

Naval Forces

Marianas GU

Landholding Agency: Navy

Property Number: 77200520031

Status: Unutilized

Reasons: Extensive deterioration

Unsuitable Properties

Building

Guam

Bldg. 5500

Naval Forces

Marianas GU

Landholding Agency: Navy

Property Number: 77200520032

Status: Unutilized

Reasons: Extensive deterioration

73 Bldgs.

Naval Computer Station

Marianas GU

Landholding Agency: Navy

Property Number: 77200520045

Status: Excess

Directions: A700-A716, A725, A728, A735, A741-A784, A803-A805, A811-A813, A829-A831

Reasons: Secured Area, Extensive deterioration

Bldgs. 2006, 2009

Naval Ship Repair Facility

Marianas GU

Landholding Agency: Navy

Property Number: 77200520048

Status: Excess

Reasons: Extensive deterioration, Secured Area

Unsuitable Properties

Building

Guam

Bldgs. 2014, 2916

Naval Ship Repair Facility

Marianas GU

Landholding Agency: Navy

Property Number: 77200520049

Status: Excess

Reasons: Extensive deterioration, Secured Area

Bldgs. 277, 308

Naval Forces Marianas

Santa Rita Co: Apra Harbor GU

Landholding Agency: Navy

Property Number: 77200610028

Status: Excess

Reasons: Secured Area

Bldgs. 1686, 1689, 1690

Naval Forces Marianas

Santa Rita Co: Apra Harbor GU

Landholding Agency: Navy

Property Number: 77200610029

Status: Excess

Reasons: Secured Area

Bldgs. 1714, 1767, 1768

Naval Forces Marianas

Santa Rita Co: Apra Harbor GU

Landholding Agency: Navy

Property Number: 77200610030

Status: Excess

Reasons: Secured Area

Unsuitable Properties

Building

Guam

Bldgs. 1771, 1772, 1773

Naval Forces Marianas

Santa Rita Co: Apra Harbor GU

Landholding Agency: Navy

Property Number: 77200610031

Status: Excess

Reasons: Secured Area

Bldgs. 1791, 1792

Naval Forces Marianas

Santa Rita Co: Apra Harbor GU

Landholding Agency: Navy

Property Number: 77200610032

Status: Excess

Reasons: Secured Area

Bldgs. 3000, 3001

Naval Forces Marianas

Santa Rita Co: Apra Harbor GU

Landholding Agency: Navy

Property Number: 77200610033

Status: Excess

Reasons: Secured Area

Bldgs. 3002, 3004, 3005

Naval Forces Marianas

Santa Rita Co: Apra Harbor GU

Landholding Agency: Navy

Property Number: 77200610034

Status: Excess

Reasons: Secured Area

Unsuitable Properties

Building

Guam

Bldgs. 3006, 3007

Naval Forces Marianas

Santa Rita Co: Apra Harbor GU

Landholding Agency: Navy

Property Number: 77200610035

Status: Excess

Reasons: Secured Area

Steam Plant

Naval Forces Marianas

Santa Rita Co: Apra Harbor GU

Landholding Agency: Navy

Property Number: 77200610036

Status: Excess

Reasons: Secured Area

Bldgs. 403, 404

Marianas Support Activity

Santa Rita Co: Naval Magazine GU

Landholding Agency: Navy

Property Number: 77200620013

Status: Unutilized

Reasons: Secured Area

Bldgs. 464, 729

Marianas Support Activity

Santa Rita Co: Naval Magazine GU

Landholding Agency: Navy

Property Number: 77200620014

Status: Unutilized

Reasons: Secured Area

Unsuitable Properties

Building

Guam

Bldgs. 836, 837

Marianas Support Activity

Santa Rita Co: Naval Magazine GU

Landholding Agency: Navy

Property Number: 77200620015

Status: Unutilized

Reasons: Extensive deterioration Secured Area

Bldg. 11XC7

Marianas Support Activity

Santa Rita Co: Naval Magazine GU

Landholding Agency: Navy

Property Number: 77200620016

Status: Unutilized

Reasons: Secured Area, Extensive deterioration

Bldgs. 23YC1, 23YC2, 23YC3

Marianas Support Activity

Santa Rita Co: Naval Magazine GU

Landholding Agency: Navy

Property Number: 77200620017

Status: Unutilized

Reasons: Extensive deterioration, Secured Area

Unsuitable Properties

Building

Guam

Bldgs. 23YC4, 23YC5

Marianas Support Activity

Santa Rita Co: Naval Magazine GU

Landholding Agency: Navy

Property Number: 77200620018

Status: Unutilized

Reasons: Secured Area, Extensive deterioration

Bldgs. 24YC7, 24YC8

Marianas Support Activity

Santa Rita Co: Naval Magazine GU

Landholding Agency: Navy

Property Number: 77200620019

Status: Unutilized

Reasons: Secured Area, Extensive deterioration

Bldgs. 26YC3, 26YC5

Marianas Support Activity

Santa Rita Co: Naval Magazine GU

Landholding Agency: Navy

Property Number: 77200620020

Status: Unutilized

Reasons: Extensive deterioration, Secured Area

Unsuitable Properties

Building

Guam

Old Bus Stop

Marianas Support Activity

Santa Rita Co: Naval Magazine GU

Landholding Agency: Navy

Property Number: 77200620021

Status: Unutilized

Reasons: Secured Area, Extensive deterioration

2 Guard Houses

Marianas Support Activity

Santa Rita Co: Naval Magazine GU

Landholding Agency: Navy

Property Number: 77200620022

Status: Unutilized

Reasons: Secured Area, Extensive deterioration

9 Magazines

Marianas Support Activity

Santa Rita Co: Naval Magazine GU

Landholding Agency: Navy

Property Number: 77200620023

Status: Unutilized

Reasons: Extensive deterioration, Secured Area

Unsuitable Properties

Building

Guam

Bldgs. 151, 152, 153

Naval Forces Marianas

Santa Rita Co: Apra Harbor GU

Landholding Agency: Navy

Property Number: 77200630001

Status: Unutilized

Reasons: Extensive deterioration

Bldg. 4

Naval Base

Barrigada GU

Landholding Agency: Navy

Property Number: 77200710002

Status: Unutilized

Reasons: Extensive deterioration

Bldg. C115

Naval Base

Barrigada GU

Landholding Agency: Navy

Property Number: 77200710003

Status: Unutilized

Reasons: Extensive deterioration

Bldg. 160

Naval Base

Barrigada GU

Landholding Agency: Navy

Property Number: 77200710004

Status: Unutilized

Reasons: Extensive deterioration

Unsuitable Properties

Building

Guam

Bldg. 176

Naval Base

Barrigada GU

Landholding Agency: Navy

Property Number: 77200710005

Status: Unutilized

Reasons: Extensive deterioration

Bldg. 33

Naval Base

Santa Rita Co: Apra Harbor GU

Landholding Agency: Navy

Property Number: 77200710006

Status: Excess

Reasons: Extensive deterioration

Bldg. 219

Naval Base

Santa Rita Co: Apra Harbor GU

Landholding Agency: Navy

Property Number: 77200710007

Status: Excess

Reasons: Extensive deterioration

Bldg. 950

Naval Base

Santa Rita Co: Apra Harbor GU

Landholding Agency: Navy

Property Number: 77200710008

Status: Excess

Reasons: Extensive deterioration

Unsuitable Properties

Building

Guam

Bldg. 1769

Naval Base

Santa Rita Co: Apra Harbor GU

Landholding Agency: Navy

Property Number: 77200710009

Status: Excess

Reasons: Extensive deterioration

Bldgs. 3186, 3187, 3188

Naval Base

Santa Rita Co: Apra Harbor GU

Landholding Agency: Navy

Property Number: 77200710010

Status: Excess

Reasons: Extensive deterioration

Bldgs. 4408, 4409

Naval Base

Santa Rita Co: Apra Harbor GU

Landholding Agency: Navy

Property Number: 77200710011

Status: Excess

Reasons: Extensive deterioration

Hazmat Storage

Naval Base

Polaris Point

Santa Rita Co: Apra Harbor GU

Landholding Agency: Navy

Property Number: 77200710012

Status: Excess

Reasons: Extensive deterioration

Unsuitable Properties

Building

Guam

Storage Bldg.

Naval Base

Polaris Point

Santa Rita Co: Apra Harbor GU

Landholding Agency: Navy

Property Number: 77200710013

Status: Excess

Reasons: Extensive deterioration

Hawaii

Bldg. 346

Naval Station

Pearl Harbor HI 96860

Landholding Agency: Navy

Property Number: 77200610002

Status: Excess

Reasons: Extensive deterioration

Bldg. 1428

Naval Station

Pearl Harbor HI

Landholding Agency: Navy

Property Number: 77200810013

Status: Excess

Reasons: Extensive deterioration

Unsuitable Properties

Building

Idaho

Bldg. CPP-691

Idaho National Engineering Laboratory

Scoville Co: Butte ID 83415

Landholding Agency: Energy

Property Number: 41199610003

Status: Unutilized

Reasons: Secured Area

Bldg. TRA-669

Idaho National Engineering Laboratory

Scoville Co: Butte ID 83415

Landholding Agency: Energy

Property Number: 41199610013

Status: Unutilized

Reasons: Secured Area

Bldg. TRA-673

Idaho National Engineering Laboratory

Scoville Co: Butte ID 83415

Landholding Agency: Energy

Property Number: 41199610018

Status: Unutilized

Reasons: Secured Area

Bldg. PBF-620

Idaho National Engineering Laboratory

Scoville Co: Butte ID 83415

Landholding Agency: Energy

Property Number: 41199610019

Status: Unutilized

Reasons: Secured Area

Unsuitable Properties

Building

Idaho

Bldg. PBF-619

Idaho National Engineering Laboratory

Scoville Co: Butte ID 83415

Landholding Agency: Energy

Property Number: 41199610022

Status: Unutilized

Reasons: Secured Area

Bldg. TRA-641

Idaho National Engineering Laboratory

Scoville Co: Butte ID 83415

Landholding Agency: Energy

Property Number: 41199610034

Status: Unutilized

Reasons: Secured Area

Bldg. CF-606

Idaho National Engineering Laboratory

Scoville Co: Butte ID 83415

Landholding Agency: Energy

Property Number: 41199610037

Status: Unutilized

Reasons: Secured Area

Bldgs. CPP638, CPP642

Idaho Natl Eng Lab

Scoville Co: Butte ID 83415

Landholding Agency: Energy

Property Number: 41200410014

Status: Excess

Reasons: Secured Area

Unsuitable Properties

Building

Idaho

Bldg. CPP 743

Idaho Natl Eng Lab

Scoville Co: Butte ID 83-415

Landholding Agency: Energy

Property Number: 41200410020

Status: Excess

Reasons: Secured Area

Bldgs. CPP1647, 1653

Idaho Natl Eng Lab

Scoville Co: Butte ID 83415

Landholding Agency: Energy

Property Number: 41200410022

Status: Excess

Reasons: Secured Area

Bldg. CPP1677

Idaho Natl Eng Lab

Scoville Co: Butte ID 83415

Landholding Agency: Energy

Property Number: 41200410023

Status: Excess

Reasons: Secured Area

Bldg. 694

Idaho Natl Eng Lab

Scoville Co: Butte ID 83415

Landholding Agency: Energy

Property Number: 41200410034

Status: Excess

Reasons: Secured Area

Unsuitable Properties

Building

Idaho

Bldgs. CPP1604-CPP1608

Idaho National Eng Lab

Scoville Co: Butte ID 83415

Landholding Agency: Energy

Property Number: 41200430071

Status: Excess

Reasons: Secured Area

Bldgs. CPP1617-CPP1619

Idaho National Eng Lab

Scoville Co: Butte ID 83415

Landholding Agency: Energy

Property Number: 41200430072

Status: Excess

Reasons: Secured Area

6 Bldgs.

Idaho National Eng Lab

Scoville Co: Butte ID 83415

Landholding Agency: Energy

Property Number: 41200430073

Status: Excess

Directions: CPP1631, CPP1634, CPP1635, CPP1636, CPP1637, CPP1638

Reasons: Secured Area

Unsuitable Properties

Building

Idaho

5 Bldgs.

Idaho National Eng Lab

Scoville Co: Butte ID 83415

Landholding Agency: Energy

Property Number: 41200430074

Status: Excess

Directions: CPP1642, CPP1643, CPP1644, CPP1646, CPP1649

Reasons: Secured Area

3 Bldgs.

Idaho National Eng Lab

Scoville Co: Butte ID 83415

Landholding Agency: Energy

Property Number: 41200430075

Status: Excess

Directions: CPP1650, CPP1651, CPP1656

Reasons: Secured Area

5 Bldgs.

Idaho National Eng Lab

Scoville Co: Butte ID 83415

Landholding Agency: Energy

Property Number: 41200430076

Status: Excess

Directions: CPP1662, CPP1663, CPP1671, CPP1673, CPP1674

Reasons: Secured Area

Unsuitable Properties

Building

Idaho

5 Bldgs.

Idaho National Eng Lab

Scoville Co: Butte ID 83415

Landholding Agency: Energy

Property Number: 41200430077

Status: Excess

Directions: CPP1678, CPP1682, CPP1683, CPP1684, CPP1686

Reasons: Secured Area

5 Bldgs.

Idaho National Eng Lab

Scoville Co: Butte ID 83415

Landholding Agency: Energy

Property Number: 41200430078

Status: Excess

Directions: CPP1713, CPP1749, CPP1750, CPP1767, CPP1769

Reasons: Secured Area

5 Bldgs.

Idaho National Eng Lab

Scoville Co: Butte ID 83415

Landholding Agency: Energy

Property Number: 41200430079

Status: Excess

Directions: CPP1770, CPP1771, CPP1772, CPP1774, CPP1776

Reasons: Secured Area

Unsuitable Properties

Building

Idaho

4 Bldgs.

Idaho National Eng Lab

Scoville Co: Butte ID 83415

Landholding Agency: Energy

Property Number: 41200430081

Status: Excess

Directions: CPP1789, CPP1790, CPP1792, CPP1794

Reasons: Secured Area

Bldgs. CPP2701, CPP2706

Idaho National Eng Lab

Scoville Co: Butte ID 83415

Landholding Agency: Energy

Property Number: 41200430082

Status: Excess

Reasons: Secured Area

3 Bldgs.

Idaho National Eng Lab

Scoville Co: Butte ID 83415

Landholding Agency: Energy

Property Number: 41200430089

Status: Excess

Directions: TRA603, TRA604, TRA610

Reasons: Secured Area

Unsuitable Properties

Building

Idaho

Bldg. TAN611

Idaho National Eng Lab

Scoville Co: Butte ID 83415

Landholding Agency: Energy

Property Number: 41200430090

Status: Excess

Reasons: Secured Area

5 Bldgs.

Idaho National Eng Lab

Scoville Co: Butte ID 83415

Landholding Agency: Energy

Property Number: 41200430091

Status: Excess

Directions: TRA626, TRA635, TRA642, TRA648, TRA654

Reasons: Secured Area

Bldg. TAN655

Idaho National Eng Lab

Scoville Co: Butte ID 83415

Landholding Agency: Energy

Property Number: 41200430092

Status: Excess

Reasons: Secured Area

Unsuitable Properties

Building

Idaho

3 Bldgs.

Idaho National Eng Lab

Scoville Co: Butte ID 83415

Landholding Agency: Energy

Property Number: 41200430093

Status: Excess

Directions: TRA657, TRA661, TRA668

Reasons: Secured Area

Bldg. TAN711

Idaho National Eng Lab

Scoville Co: Butte ID 83415

Landholding Agency: Energy

Property Number: 41200430094

Status: Excess

Reasons: Secured Area

6 Bldgs.

Idaho National Eng Lab

Scoville Co: Butte ID 83415

Landholding Agency: Energy

Property Number: 41200430095

Status: Excess

Directions: CPP602-CPP606, CPP609

Reasons: Secured Area

Unsuitable Properties

Building

Idaho

5 Bldgs.

Idaho National Eng Lab

Scoville Co: Butte ID 83415

Landholding Agency: Energy

Property Number: 41200430096

Status: Excess

Directions: CPP611-CPP614, CPP616

Reasons: Secured Area

4 Bldgs.

Idaho National Eng Lab

Scoville Co: Butte ID 83415

Landholding Agency: Energy

Property Number: 41200430097

Status: Excess

Directions: CPP621, CPP626, CPP630, CPP639

Reasons: Secured Area

4 Bldgs.

Idaho National Eng Lab

Scoville Co: Butte ID 83415

Landholding Agency: Energy

Property Number: 41200430098

Status: Excess

Directions: CPP641, CPP644, CPP645, CPP649

Reasons: Secured Area

Unsuitable Properties

Building

Idaho

Bldgs. CPP651-CPP655

Idaho National Eng Lab

Scoville Co: Butte ID 83415

Landholding Agency: Energy

Property Number: 41200430099

Status: Excess

Reasons: Secured Area

Bldgs. CPP659-CPP663

Idaho National Eng Lab

Scoville Co: Butte ID 83415

Landholding Agency: Energy

Property Number: 41200440001

Status: Excess

Reasons: Secured Area

Bldgs. CPP666, CPP668

Idaho Naitonal Eng Lab

Scoville Co: Butte ID 83415

Landholding Agency: Energy

Property Number: 41200440002

Status: Excess

Reasons: Secured Area

Unsuitable Properties

Building

Idaho

1 Bldgs.

Idaho National Eng Lab

Scoville Co: Butte ID 83415

Landholding Agency: Energy

Property Number: 41200440004

Status: Excess

Directions: CPP684

Reasons: Secured Area

5 Bldgs.

Idaho National Eng Lab

Scoville Co: Butte ID 83415

Landholding Agency: Energy

Property Number: 41200440005

Status: Excess

Directions: CPP692, CPP694, CPP697-CPP699

Reasons: Secured Area

3 Bldgs.

Idaho National Eng Lab

Scoville Co: Butte ID 83415

Landholding Agency: Energy

Property Number: 41200440006

Status: Excess

Directions: CPP701, CPP701A, CPP708

Reasons: Secured Area

Unsuitable Properties

Building

Idaho

Bldgs. 711, 719A

Idaho National Eng Lab

Scoville Co: Butte ID 83415

Landholding Agency: Energy

Property Number: 41200440007

Status: Excess

Reasons: Secured Area

4 Bldgs.

Idaho National Eng Lab

Scoville Co: Butte ID 83415

Landholding Agency: Energy

Property Number: 41200440008

Status: Excess

Directions: CPP724-CPP726, CPP728

Reasons: Secured Area

Bldg. CPP729/741

Idaho National Eng Lab

Scoville Co: Butte ID 83415

Landholding Agency: Energy

Property Number: 41200440012

Status: Excess

Reasons: Secured Area

Unsuitable Properties

Building

Idaho

Bldgs. CPP733, CPP736

Idaho National Eng Lab

Scoville Co: Butte ID 83415

Landholding Agency: Energy

Property Number: 41200440013

Status: Excess

Reasons: Secured Area

Bldgs. CPP740, CPP742

Idaho National Eng Lab

Scoville Co: Butte ID 83415

Landholding Agency: Energy

Property Number: 41200440014

Status: Excess

Reasons: Secured Area

Bldgs. CPP746, CPP748

Idaho National Eng Lab

Scoville Co: Butte ID 83415

Landholding Agency: Energy

Property Number: 41200440015

Status: Excess

Reasons: Secured Area

3 Bldgs.

Idaho National Eng Lab

CPP750, CPP751, CPP752

Scoville Co: Butte ID 83415

Landholding Agency: Energy

Property Number: 41200440016

Status: Excess

Reasons: Secured Area

Unsuitable Properties

Building

Idaho

3 Bldgs.

Idaho National Eng Lab

CPOP753, CPP753A, CPP754

Scoville Co: Butte ID 83415

Landholding Agency: Energy

Property number: 41200440017

Status: Excess

Reasons: Secured Area

Bldgs. CPP760, CPP763

Idaho National Eng Lab

Scoville Co: Butte ID 83415

Landholding Agency: Energy

Property Number: 41200440018

Status: Excess

Reasons: Secured Area

Bldgs. CPP764, CPP765

Idaho National Eng Lab

Scoville Co: Butte ID 83415

Landholding Agency: Energy

Property Number: 41200440019

Status: Excess

Reasons: Secured Area

Bldgs. CPP767, CPP768

Idaho National Eng Lab

Scoville Co: Butte ID 83415

Landholding Agency: Energy

Property Number: 41200440020

Status: Excess

Reasons: Secured Area

Unsuitable Properties

Building

Idaho

Bldgs. CPP791, CPP795

Idaho National Eng Lab

Scoville Co: Butte ID 83415

Landholding Agency: Energy

Property Number: 41200440021

Status: Excess

Reasons: Secured Area

3 Bldgs.

Idaho National Eng Lab

CPP796, CPP797, CPP799

Scoville Co: Butte ID 83415

Landholding Agency: Energy

Property Number: 41200440022

Status: Excess

Reasons: Secured Area

Bldgs. CPP701B, CPP719

Idaho National Eng Lab

Scoville Co: Butte ID 83415

Landholding Agency: Energy

Property Number: 41200440023

Status: Excess

Reasons: Secured Area

Bldgs. CPP720A, CPP720B

Idaho National Eng Lab

Scoville Co: Butte ID 83415

Landholding Agency: Energy

Property Number: 41200440024

Status: Excess

Reasons: Secured Area

Unsuitable Properties

Building

Idaho

Bldg. CPP1781

Idaho National Eng Lab

Scoville Co: Butte ID 83415

Landholding Agency: Energy

Property Number: 41200440025

Status: Excess

Reasons: Secured Area

2 Bldgs.

Idaho National Eng Lab

CPP0000VES-UTI-111, VES-UTI-112

Scoville Co: Butte ID 83415

Landholding Agency: Energy

Property Number: 41200440026

Status: Excess

Reasons: Secured Area

Bldgs. TAN704, TAN733

Idaho National Eng Lab

Scoville Co: Butte ID 83415

Landholding Agency: Energy

Property Number: 41200440028

Status: Excess

Reasons: Secured Area

Bldgs. TAN1611, TAN1614

Idaho National Eng Lab

Scoville Co: Butte ID 83415

Landholding Agency: Energy

Property Number: 41200440029

Status: Excess

Reasons: Secured Area

Unsuitable Properties

Building

Idaho

Bldg. CF633

Idaho Natl Laboratory

Scoville Co: Butte ID 83415

Landholding Agency: Energy

Property Number: 41200520005

Status: Excess

Reasons: Extensive deterioration

8 Buildings

Palmer Residence

Montour ID

Landholding Agency: Interior

Property Number: 61200730004

Status: Unutilized

Reasons: Extensive deterioration

Illinois

Bldgs. 306A, B, C, TR-5

Argonne National Lab

Argonne IL 60439

Landholding Agency: Energy

Property Number: 41200720017

Status: Excess

Reasons: Secured Area

Trailers 092, 120, 121, 143

Fermi Natl Accelerator lab

Batavia IL 60510

Landholding Agency: Energy

Property Number: 41200740004

Status: Excess

Reasons: Extensive deterioration

Unsuitable Properties

Building

Illinois

Bldg. 42

Naval Station

Great Lakes IL 60088

Landholding Agency: Navy

Property Number: 77200520055

Status: Excess

Reasons: Extensive deterioration, Secured Area

Bldgs. 25

Naval Station

Great Lakes IL 60088

Landholding Agency: Navy

Property Number: 77200530001

Status: Excess

Reasons: Extensive deterioration

Bldg. 42

Naval Station

Great Lakes IL 60088

Landholding Agency: Navy

Property Number: 77200530014

Status: Excess

Reasons: Secured Area, Extensive deterioration

Unsuitable Properties

Building

Illinois

Bldg. 2C

Naval Station

Great Lakes IL 60088-2900

Landholding Agency: Navy

Property Number: 77200540005

Status: Excess

Reasons: Secured Area

Bldg. 3312

Naval Station

Great Lakes IL 60085

Landholding Agency: Navy

Property Number: 77200640028

Status: Excess

Reasons: Secured Area

Bldg. 220

Naval Station

Great Lakes IL 60085

Landholding Agency: Navy

Property Number: 77200640029

Status: Excess

Reasons: Secured Area

Bldg. B-912

Naval Station

Great Lakes IL 60088

Landholding Agency: Navy

Property Number: 77200710042

Status: Excess

Reasons: Secured Area

Unsuitable Properties

Building

Indiana

Bldgs. 1871, 2636

Naval Support Activity

Crane Co: Martin IN 47522

Landholding Agency: Navy

Property Number: 77200530015

Status: Unutilized

Reasons: Extensive deterioration, Within 2000 ft. of flammable or explosive material, Secured Area

Bldg. 1820

Naval Support Activity

Crane Co: Martin IN 47522

Landholding Agency: Navy

Property Number: 77200540028

Status: Unutilized

Reasons: Extensive deterioration

Bldg. 2694

Naval Support Activity

Crane Co: Martin IN 47522

Landholding Agency: Navy

Property Number: 77200540029

Status: Unutilized

Reasons: Extensive deterioration

Unsuitable Properties

Building

Indiana

Bldg. 2796

Naval Support Activity

Crane Co: Martin IN 47522

Landholding Agency: Navy

Property Number: 77200620001

Status: Unutilized

Reasons: Extensive deterioration, Secured Area, Within 2000 ft. of flammable or explosive material

Bldg. 21, VA Medical Center

East 38th Street

Marion Co: Grant IN 46952

Landholding Agency: VA

Property Number: 97199230001

Status: Excess

Reasons: Extensive deterioration

Bldg. 22, VA Medical Center

East 38th Street

Marion Co: Grant IN 46952

Landholding Agency: VA

Property Number: 97199230002

Status: Excess

Reasons: Extensive deterioration

Unsuitable Properties

Building

Indiana

Bldg. 62, VA Medical Center

East 38th Street

Marion Co: Grant IN 46952

Landholding Agency: VA

Property Number: 97199230003

Status: Excess

Reasons: Extensive deterioration

Maryland

Bldg. 84NS

Naval Support Activity

Annapolis Co: Anne Arundel MD 21402

Landholding Agency: Navy

Property Number: 77200610038

Status: Unutilized

Reasons: Floodway, Within 2000 ft. of flammable or explosive material

Bldg. 2075

Naval Surface Warfare

Indian Head MD

Landholding Agency: Navy

Property Number: 77200630043

Status: Excess

Reasons: Extensive deterioration

Unsuitable Properties

Building

Massachusetts

Bldg. 5202

USCG Air Station

Bourne MA 02540

Landholding Agency: Coast Guard

Property Number: 88200810002

Status: Unutilized

Reasons: Extensive deterioration, Secured Area

Westview Street Wells

Lexington MA 02173

Landholding Agency: VA

Property Number: 97199920001

Status: Unutilized

Reasons: Extensive deterioration

Michigan

Admin. Bldg.

Station Saginaw River

Essexville Co: Bay MI 48732

Landholding Agency: Coast Guard

Property Number: 88200510001

Status: Unutilized

Reasons: Secured Area, Extensive deterioration

Unsuitable Properties

Building

Minnesota

House

Glacial Ridge 13997 Hwy 2W

Red Lake Falls MN

Landholding Agency: Interior

Property Number: 61200720004

Status: Excess

Reasons: Extensive deterioration

Mississippi

Bldg. 9

Construction Battalion Center

Gulfport MS

Landholding Agency: Navy

Property Number: 77200610039

Status: Unutilized

Reasons: Secured Area, Extensive deterioration

Bldgs. 22, 27, 41

Construction Battalion Center

Gulfport MS

Landholding Agency: Navy

Property Number: 77200610040

Status: Unutilized

Reasons: Extensive deterioration, Secured Area

Unsuitable Properties

Building

Mississippi

Bldgs. 108, 181, 183

Construction Battalion Center

Gulfport MS

Landholding Agency: Navy

Property Number: 77200610041

Status: Unutilized

Reasons: Secured Area, Extensive deterioration

Bldg. 201

Construction Battalion Center

Gulfport MS

Landholding Agency: Navy

Property Number: 77200610042

Status: Unutilized

Reasons: Extensive deterioration, Secured Area

Bldgs. 270, 270A-1, 270A-2

Construction Battalion Center

Gulfport MS

Landholding Agency: Navy

Property Number: 77200610043

Status: Unutilized

Reasons: Extensive deterioration, Secured Area

Unsuitable Properties

Building

Mississippi

Bldgs. 375, 420

Construction Battalion Center

Gulfport MS

Landholding Agency: Navy

Property Number: 77200610044

Status: Unutilized

Reasons: Extensive deterioration, Secured Area

Bldgs. 95, 96

Naval Air Station

Meridian MS 39309

Landholding Agency: Navy

Property Number: 77200720046

Status: Unutilized

Reasons: Within airport runway clear zone, Secured Area, Within 2000 ft. of flammable or explosive material

Bldg. 167

Naval Air Station

Meridian MS 39309

Landholding Agency: Navy

Property Number: 77200720047

Status: Unutilized

Reasons: Secured Area

Unsuitable Properties

Building

Mississippi

Bldgs. 212, 228

Naval Air Station

Meridian MS 39309

Landholding Agency: Navy

Property Number: 77200720048

Status: Unutilized

Reasons: Secured Area

Bldgs. 266, 267

Naval Air Station

Meridian MS 39309

Landholding Agency: Navy

Property Number: 77200720049

Status: Unutilized

Reasons: Secured Area

Bldgs. 351, 445

Naval Air Station

Meridian MS 39309

Landholding Agency: Navy

Property Number: 77200720050

Status: Unutilized

Reasons: Secured Area

Bldgs. 182, 183

Naval Air Station

Meridian MS 39309

Landholding Agency: Navy

Property Number: 77200810014

Status: Unutilized

Reasons: Secured Area

Unsuitable Properties

Building

Mississippi

Bldgs. 222, 230, 326

Naval Air Station

Meridian MS 39309

Landholding Agency: Navy

Property Number: 77200810015

Status: Unutilized

Reasons: Secured Area

Bldg. 6, Boiler Plant

Biloxi VA Medical Center

Gulfport Co: Harrison MS 39531

Landholding Agency: VA

Property Number: 97199410001

Status: Unutilized

Reasons: Floodway

Bldg. 67

Biloxi VA Medical Center

Gulfport Co: Harrison MS 39531

Landholding Agency: VA

Property Number: 97199410008

Status: Unutilized

Reasons: Extensive deterioration

Bldg. 68

Biloxi VA Medical Center

Gulfport Co: Harrison MS 39531

Landholding Agency: VA

Property Number: 97199410009

Status: Unutilized

Reasons: Extensive deterioration

Unsuitable Properties

Building

Missouri

Bldg. 3

VA Medical Center

Jefferson Barracks Division

St. Louis MO 63125

Landholding Agency: VA

Property Number: 97200340001

Status: Underutilized

Reasons: Secured Area

Bldg. 4

VA Medical Center

Jefferson Barracks Division

St. Louis MO

Landholding Agency: VA

Property Number: 97200340002

Status: Underutilized

Reasons: Secured Area

Bldg. 27

VA Medical Center

Jefferson Barracks Division

St. Louis MO 63125

Landholding Agency: VA

Property Number: 97200340003

Status: Underutilized

Reasons: Secured Area

Unsuitable Properties

Building

Missouri

Bldg. 28

VA Medical Center

Jefferson Barracks Division

St. Louis MO 63125

Landholding Agency: VA

Property Number: 97200340004

Status: Underutilized

Reasons: Secured Area

Bldg. 29

VA Medical Center

Jefferson Barracks Division

St. Louis MO 63125

Landholding Agency: VA

Property Number: 97200340005

Status: Underutilized

Reasons: Secured Area

Bldg. 50

VA Medical Center

Jefferson Barracks Division

St. Louis MO 63125

Landholding Agency: VA

Property Number: 97200340006

Status: Underutilized

Reasons: Secured Area

Unsuitable Properties

Building

Nevada

28 Facilities

Nevada Test Site

Mercury Co: Nye NV 89023

Landholding Agency: Energy

Property Number: 41200310018

Status: Excess

Reasons: Other—contamination, Secured Area

31 Bldgs./Facilities

Nellis AFB

Tonopah Test Range

Tonopah Co: Nye NV 89049

Landholding Agency: Energy

Property Number: 41200330003

Status: Unutilized

Reasons: Secured Area

42 Bldgs.

Nellis Air Force Base

Tonopah Co: Nye NV 89049

Landholding Agency: Energy

Property Number: 41200410029

Status: Unutilized

Directions: 49-01, NM104, NM105, 03-35A-H, 03-35J-N, 03-36A-C, 03-36E-H, 03-36J-N, 03-36R, 03-37, 15036, 03-44A-D, 03-46, 03-47, 03-49, 03-88, 03-89, 03-90

Reasons: Secured Area

Unsuitable Properties

Building

Nevada

241 Bldgs.

Tonopah Test Range

Tonopah Co: Nye NV 89049

Landholding Agency: Energy

Property Number: 41200440036

Status: Excess

Reasons: Within 2000 ft. of flammable or explosive material, Secured Area

10 Bldgs.

Nevada Test Site

Mercury Co: Nye NV 89023

Landholding Agency: Energy

Property Number: 41200610003

Status: Excess

Reasons: Secured Area

3 Bldgs.

Nevada Test Site

23-790, 06-CP50, 26-2107

Mercury Co: Nye NV 89023

Landholding Agency: Navy

Property Number: 77200510025

Status: Excess

Reasons: Other—contamination, Secured Area

Unsuitable Properties

Building

Nevada

Units 501-521

Naval Air Station

Fallon NV

Landholding Agency: Navy

Property Number: 77200710017

Status: Excess

Reasons: Secured Area

New Jersey

Bldgs. 475, 476

Naval Weapons Station

Colts Neck NJ 07722

Landholding Agency: Navy

Property Number: 77200810016

Status: Unutilized

Reasons: Secured Area, Within 2000 ft. of flammable or explosive material

Bldgs. D-1A, D-3, D-4

Naval Weapons Station

Colts Neck NJ 07722

Landholding Agency: Navy

Property Number: 77200810017

Status: Unutilized

Reasons: Secured Area, Within 2000 ft. of flammable or explosive material

Unsuitable Properties

Building

New Jersey

Bldgs. EA-1, EA-2, HA-1A

Naval Weapons Station

Colts Neck NJ 07722

Landholding Agency: Navy

Property Number: 77200810018

Status: Unutilized

Reasons: Within 2000 ft. of flammable or explosive material, Secured Area

Bldgs. R-30, S-31, S-219

Naval Weapons Station

Colts Neck NJ 07722

Landholding Agency: Navy

Property Number: 77200810019

Status: Unutilized

Reasons: Secured Area, Within 2000 ft. of flammable or explosive material

New Mexico

Bldgs. 9252, 9268

Kirtland Air Force Base

Albuquerque Co: Bernalillo NM 87185

Landholding Agency: Energy

Property Number: 41199430002

Status: Unutilized

Reasons: Extensive deterioration

Unsuitable Properties

Building

New Mexico

Tech Area II

Kirtland Air Force Base

Albuquerque Co: Bernalillo NM 87105

Landholding Agency: Energy

Property Number: 41199630004

Status: Unutilized

Reasons: Within 2000 ft. of flammable or explosive material, Secured Area, Extensive deterioration

Bldg. 26, TA-33

Los Alamos National Laboratory

Los Alamos NM 87545

Landholding Agency: Energy

Property Number: 41199810004

Status: Unutilized

Reasons: Extensive deterioration, Secured Area

Bldg. 2, TA-21

Los Alamos National Laboratory

Los Alamos NM 87545

Landholding Agency: Energy

Property Number: 41199810004

Status: Unutilized

Reasons: Secured Area

Unsuitable Properties

Building

New Mexico

Bldg. 5, TA-21

Los Alamos National Laboratory

Los Alamos NM 87545

Landholding Agency: Energy

Property Number: 41199810011

Status: Unutilized

Reasons: Secured Area

Bldg. 116, TA-21

Los Alamos National Laboratory

Los Alamos NM 87545

Landholding Agency: Energy

Property Number: 41199810013

Status: Unutilized

Reasons: Secured Area

Bldg. 286, TA-21

Los Alamos National Laboratory

Los Alamos NM 87545

Landholding Agency: Energy

Property Number: 41199810016

Status: Unutilized

Reasons: Secured Area

Unsuitable Properties

Building

New Mexico

Bldg. 516, TA-16

Los Alamos National Laboratory

Los Alamos NM 87545

Landholding Agency: Energy

Property Number: 41199810021

Status: Unutilized

Reasons: Extensive deterioration, Secured Area, Within 2000 ft. of flammable or explosive material

Bldg. 517, TA-16

Los Alamos National Laboratory

Los Alamos NM 87545

Landholding Agency: Energy

Property Number: 41199810022

Status: Unutilized

Reasons: Secured Area, Within 2000 ft. of flammable or explosive material, Extensive deterioration

Bldg. 31

Los Alamos National Lab

Los Alamos NM 87545

Landholding Agency: Energy

Property Number: 41199930003

Status: Unutilized

Reasons: Secured Area, Extensive deterioration

Unsuitable Properties

Building

New Mexico

Bldg. 38, TA-14

Los Alamos National Lab

Los Alamos NM 87545

Landholding Agency: Energy

Property Number: 41199940004

Status: Unutilized

Reasons: Extensive deterioration, Secured Area

Bldg. 9, TA-15

Los Alamos National Lab

Los Alamos NM 87545

Landholding Agency: Energy

Property Number: 41199940006

Status: Unutilized

Reasons: Secured Area

Bldg. 141, TA-15

Los Alamos National Lab

Los Alamos NM 87545

Landholding Agency: Energy

Property Number: 41199940008

Status: Unutilized

Reasons: Secured Area

Bldg. 44, TA-15

Los Alamos National Lab

Los Alamos NM 87545

Landholding Agency: Energy

Property Number: 41199940009

Status: Unutilized

Reasons: Secured Area

Unsuitable Properties

Building

New Mexico

Bldg. 2, TA-18

Los Alamos National Lab

Los Alamos NM 87545

Landholding Agency: Energy

Property Number: 41199940010

Status: Unutilized

Reasons: Extensive deterioration, Secured Area

Bldg. 5, TA-18

Los Alamos National Lab

Los Alamos NM 87545

Landholding Agency: Energy

Property Number: 41199940011

Status: Unutilized

Reasons: Extensive deterioration, Secured Area

Bldg. 186, TA-18

Los Alamos National Lab

Los Alamos NM 87545

Landholding Agency: Energy

Property Number: 41199940012

Status: Unutilized

Reasons: Secured Area, Extensive deterioration

Unsuitable Properties

Building

New Mexico

Bldg. 188, TA-18

Los Alamos National Lab

Los Alamos NM 87545

Landholding Agency: Energy

Property Number: 41199940013

Status: Unutilized

Reasons: Extensive deterioration, Secured Area

Bldg. 44, TA-36

Los Alamos National Lab

Los Alamos NM 87545

Landholding Agency: Energy

Property Number: 41199940015

Status: Unutilized

Reasons: Secured Area, Extensive deterioration

Bldg. 45, TA-36

Los Alamos National Lab

Los Alamos NM 87545

Landholding Agency: Energy

Property Number: 41199940016

Status: Unutilized

Reasons: Extensive deterioration, Secured Area

Unsuitable Properties

Building

New Mexico

Bldg. 258, TA-46

Los Alamos National Lab

Los Alamos NM 87545

Landholding Agency: Energy

Property Number: 41199940019

Status: Unutilized

Reasons: Extensive deterioration, Secured Area

TA-3, Bldg. 208

Los Alamos National Lab

Los Alamos NM 87545

Landholding Agency: Energy

Property Number: 41200010010

Status: Unutilized

Reasons: Extensive deterioration, Secured Area

TA-14, Bldg. 5

Los Alamos National Lab

Los Alamos NM 87545

Landholding Agency: Energy

Property Number: 41200010019

Status: Unutilized

Reasons: Secured Area

Unsuitable Properties

Building

New Mexico

TA-21, Bldg. 150

Los Alamos National Lab

Los Alamos NM 87545

Landholding Agency: Energy

Property Number: 41200010020

Status: Unutilized

Reasons: Secured Area

Bldg. 149, TA-21

Los Alamos National Lab

Los Alamos NM 87545

Landholding Agency: Energy

Property Number: 41200010024

Status: Unutilized

Reasons: Secured Area

Bldg. 312, TA-21

Los Alamos National Lab

Los Alamos NM 87545

Landholding Agency: Energy

Property Number: 41200010025

Status: Unutilized

Reasons: Secured Area

Bldg. 313, TA-21

Los Alamos National Lab

Los Alamos NM 87545

Landholding Agency: Energy

Property Number: 41200010026

Status: Unutilized

Reasons: Secured Area

Unsuitable Properties

Building

New Mexico

Bldg. 314, TA-21

Los Alamos National Lab

Los Alamos NM 87545

Landholding Agency: Energy

Property Number: 41200010027

Status: Unutilized

Reasons: Secured Area

Bldg. 315, TA-21

Los Alamos National Lab

Los Alamos NM 87545

Landholding Agency: Energy

Property Number: 41200010028

Status: Unutilized

Reasons: Secured Area

Bldg. 1, TA-8

Los Alamos National Lab

Los Alamos NM 87545

Landholding Agency: Energy

Property Number: 41200010029

Status: Unutilized

Reasons: Secured Area

Bldg. 2, TA-8

Los Alamos National Lab

Los Alamos NM 87545

Landholding Agency: Energy

Property Number: 41200010030

Status: Unutilized

Reasons: Extensive deterioration, Secured Area

Unsuitable Properties

Building

New Mexico

Bldg. 3, TA-8

Los Alamos National Lab

Los Alamos NM 87545

Landholding Agency: Energy

Property Number: 41200020001

Status: Unutilized

Reasons: Extensive deterioration, Secured Area

Bldg. 51, TA-9

Los Alamos National Lab

Los Alamos NM 87545

Landholding Agency: Energy

Property Number: 41200020002

Status: Unutilized

Reasons: Secured Area

Bldg. 30, TA-14

Los Alamos National Lab

Los Alamos NM 87545

Landholding Agency: Energy

Property Number: 41200020003

Status: Unutilized

Reasons: Secured Area

Bldg. 16, TA-3

Los Alamos National Lab

Los Alamos NM 87545

Landholding Agency: Energy

Property Number: 41200020009

Status: Unutilized

Reasons: Secured Area

Unsuitable Properties

Building

New Mexico

Bldg. 48, TA-55

Los Alamos National Lab

Los Alamos NM 87545

Landholding Agency: Energy

Property Number: 41200020017

Status: Unutilized

Reasons: Secured Area

Bldg. 125, TA-55

Los Alamos National Lab

Los Alamos NM 87545

Landholding Agency: Energy

Property Number: 41200020018

Status: Unutilized

Reasons: Secured Area

Bldg. 162, TA-55

Los Alamos National Lab

Los Alamos NM 87545

Landholding Agency: Energy

Property Number: 41200020019

Status: Unutilized

Reasons: Secured Area

Bldg. 22, TA-33

Los Alamos National Lab

Los Alamos NM 87545

Landholding Agency: Energy

Property Number: 41200020022

Status: Unutilized

Reasons: Secured Area

Extensive deterioration

Unsuitable Properties

Building

New Mexico

Bldg. 23, TA-49

Los Alamos National Lab

Los Alamos NM 87545

Landholding Agency: Energy

Property Number: 41200020023

Status: Unutilized

Reasons: Secured Area

Bldg. 37, TA-53

Los Alamos National Lab

Los Alamos NM 87545

Landholding Agency: Energy

Property Number: 41200020024

Status: Unutilized

Reasons: Secured Area

Bldg. 121, TA-49

Los Alamos National Lab

Los Alamos NM 87545

Landholding Agency: Energy

Property Number: 41200020025

Status: Unutilized

Reasons: Secured Area

Bldg. B117

Kirtland Operations

Albuquerque Co: Bernalillo NM 87117

Landholding Agency: Energy

Property Number: 41200220032

Status: Excess

Reasons: Extensive deterioration

Unsuitable Properties

Building

New Mexico

Bldg. B118

Kirtland Operations

Albuquerque Co: Bernalillo NM 87117

Landholding Agency: Energy

Property Number: 41200220033

Status: Excess

Reasons: Extensive deterioration

Bldg. B119

Kirtland Operations

Albuquerque Co: Bernalillo NM 87117

Landholding Agency: Energy

Property Number: 41200220034

Status: Excess

Reasons: Extensive deterioration

Bldg. 2, TA-11

Los Alamos National Lab

Los Alamos NM 87545

Landholding Agency: Energy

Property Number: 41200240004

Status: Unutilized

Reasons: Secured Area

Bldg. 4, TA-41

Los Alamos National Lab

Los Alamos NM 87545

Landholding Agency: Energy

Property Number: 41200240005

Status: Unutilized

Reasons: Secured Area

Unsuitable Properties

Building

New Mexico

Bldg. 116, TA-21

Los Alamos National Lab

Los Alamos NM 87545

Landholding Agency: Energy

Property Number: 41200310003

Status: Unutilized

Reasons: Secured Area

Bldgs. 1, 2, 3, 4, 5, TA-28

Los Alamos National Lab

Los Alamos NM 87545

Landholding Agency: Energy

Property Number: 41200310004

Status: Unutilized

Reasons: Secured Area

Bldgs. 447, 1483

Los Alamos Natl Laboratory

Los Alamos NM

Landholding Agency: Energy

Property Number: 41200410002

Status: Excess

Reasons: Extensive deterioration

Secured Area

Bldg. 99650

Sandia National Laboratory

Albuquerque Co: Bernalillo NM 87185

Landholding Agency: Energy

Property Number: 41200510004

Status: Unutilized

Reasons: Secured Area

Unsuitable Properties

Building

New Mexico

Bldgs. 807, 6017 CAMU2&CAMU3

Sandia Natl Laboratories

Albuquerque NM 87185

Landholding Agency: Energy

Property Number: 41200730001

Status: Unutilized

Reasons: Secured Area

New York

Bldgs. 0087, 0100

Brookhaven Natl Laboratory

Upton NY 11973

Landholding Agency: Energy

Property Number: 41200720002

Status: Excess

Reasons: Within 2000 ft. of flammable or explosive material, Secured Area

Bldgs. 0134A, 0179A

Brookhaven Natl Laboratory

Upton NY 11973

Landholding Agency: Energy

Property Number: 41200720003

Status: Excess

Reasons: Within 2000 ft. of flammable or explosive material, Secured Area

Unsuitable Properties

Building

New York

Bldgs. 0210, 0211

Brookhaven Natl Laboratory

Upton NY 11973

Landholding Agency: Energy

Property Number: 41200720004

Status: Excess

Reasons: Secured Area, Within 2000 ft. of flammable or explosive material

Bldgs. 0475, 0481

Brookhaven Natl Laboratory

Upton NY 11973

Landholding Agency: Energy

Property Number: 41200720005

Status: Excess

Reasons: Secured Area, Within 2000 ft. of flammable or explosive material

Bldgs. 0629, 0952

Brookhaven Natl Laboratory

Upton NY 11973

Landholding Agency: Energy

Property Number: 41200720006

Status: Excess

Reasons: Secured Area, Within 2000 ft. of flammable or explosive material

Unsuitable Properties

Building

New York

Bldg. 0096

Brookhaven National Lab

Upton NY 11973

Landholding Agency: Energy

Property Number: 41200730004

Status: Unutilized

Reasons: Extensive deterioration, Secured Area

Bldgs. 0491, 0650

Brookhaven Natl Lab

Upton Co: Suffolk NY 11973

Landholding Agency: Energy

Property Number: 41200810003

Status: Excess

Reasons: Secured Area

Bldgs. 0810, 0811, 0901W

Brookhaven Natl Lab

Upton Co: Suffolk NY 11973

Landholding Agency: Energy

Property Number: 41200810004

Status: Excess

Reasons: Secured Area

Kussius House & Shed

Saratoga Natl Historic Park

Stillwater NY 12170

Landholding Agency: Interior

Property Number: 61200710005

Status: Unutilized

Reasons: Extensive deterioration

Unsuitable Properties

Building

North Carolina

Trailer

81 Carl Sandburg Lane

Flat Rock Co: Henderson NC 28731

Landholding Agency: Interior

Property Number: 61200710006

Status: Unutilized

Reasons: Extensive deterioration

Bldg. 82

Marine Corps Air Station

Cherry Point Co: Craven NC 28533

Landholding Agency: Navy

Property Number: 77200510009

Status: Underutilized

Reasons: Secured Area

Bldg. 4314

Marine Corps Air Station

Cherry Point Co: Craven NC 28533

Landholding Agency: Navy

Property Number: 77200510010

Status: Underutilized

Reasons: Secured Area

Bldg. 124

Marine Corps Air Station

Cherry Point Co: Craven NC 28533

Landholding Agency: Navy

Property Number: 77200510023

Status: Underutilized

Reasons: Secured Area

Unsuitable Properties

Building

North Carolina

Bldgs. 73, 95, 1018

Marine Corps Air Station

Cherry Point NC

Landholding Agency: Navy

Property Number: 77200620003

Status: Unutilized

Reasons: Secured Area

Bldg. 499

Marine Corps Air Station

Cherry Point NC

Landholding Agency: Navy

Property Number: 77200620038

Status: Unutilized

Reasons: Secured Area

Bldgs. 3177, 3885

Marine Corps Air Station

Cherry Point NC

Landholding Agency: Navy

Property Number: 77200620039

Status: Unutilized

Reasons: Secured Area

Bldg. 4473

Marine Corps Air Station

Cherry Point NC

Landholding Agency: Navy

Property Number: 77200620040

Status: Unutilized

Reasons: Secured Area

Unsuitable Properties

Building

North Carolina

Bldg. 4523

Marine Corps Air Station

Cherry Point NC

Landholding Agency: Navy

Property Number: 77200620041

Status: Unutilized

Reasons: Secured Area

RPFN 0S1

Group Cape Hatteras

Buxton Co: Dare NC 27902

Landholding Agency: Coast Guard

Property Number: 88200540001

Status: Unutilized

Reasons: Secured Area

Extensive deterioration

RPFN 053

Sector N.C.

Atlantic Beach Co: Carteret NC 28512

Landholding Agency: Coast Guard

Property Number: 88200540002

Status: Unutilized

Reasons: Extensive deterioration

Secured Area

Unsuitable Properties

Building

North Carolina

Equip. Bldg.

Coast Guard Station 11101 Station St.

Emerald Isle NC

Landholding Agency: Coast Guard

Property Number: 88200630001

Status: Unutilized

Reasons: Secured Area

Bldg. 9

VA Medical Center 1100 Tunnel Road

Asheville Co: Buncombe NC 28805

Landholding Agency: VA

Property Number: 97199010008

Status: Unutilized

Reasons: Extensive deterioration

Ohio

Naval Reserve Center

Cleveland OH 44114

Landholding Agency: Coast Guard

Property Number: 88200740002

Status: Unutilized

Reasons: Secured Area

Within 2000 ft. of flammable or explosive material within airport runway clear zone

Unsuitable Properties

Building

Ohio

Bldg. 105

VA Medical Center

Dayton Co: Montgomery OH 45428

Landholding Agency: VA

Property Number: 97199920005

Status: Unutilized

Reasons: Extensive deterioration

Pennsylvania

Z-Bldg.

Bettis Atomic Power Lab

West Mifflin Co: Allegheny PA 15122-0109

Landholding Agency: Energy

Property Number: 41199720002

Status: Excess

Reasons: Extensive deterioration

Puerto Rico

Bldgs. 59, C-48, B-6A

National Historic Site

San Juan Co: La Perla PR

Landholding Agency: Interior

Property Number: 61200710007

Status: Unutilized

Reasons: Extensive deterioration

Unsuitable Properties

Building

Puerto Rico

Sectors #42, #44

Natl Historic Site

San Miguel PR

Landholding Agency: Interior

Property Number: 61200740004

Status: Unutilized

Reasons: Extensive deterioration

South Carolina

Bldg. 701-6G

Jackson Barricade

Jackson SC

Landholding Agency: Energy

Property Number: 41200420010

Status: Unutilized

Reasons: Secured Area

Bldg. 211-000F

Nuclear Materials Processing Facility

Aiken SC 29802

Landholding Agency: Energy

Property Number: 41200420011

Status: Excess

Reasons: Secured Area

Bldg. 221-001F

Nuclear Materials Processing Facility

Aiken SC 29802

Landholding Agency: Energy

Property Number: 41200420015

Status: Excess

Reasons: Secured Area

Unsuitable Properties

Building

South Carolina

Bldg. 190-K

Savannah River Operations

Aiken SC 29802

Landholding Agency: Energy

Property Number: 41200420030

Status: Unutilized

Reasons: Secured Area

Bldg. 710-015N

Savannah River Operations

Aiken SC 29802

Landholding Agency: Energy

Property Number: 41200430002

Status: Excess

Reasons: Secured Area

Bldg. 713-000N

Savannah River Operations

Aiken SC 29802

Landholding Agency: Energy

Property Number: 41200430003

Status: Excess

Reasons: Secured Area

Bldgs. 80-9G, 10G

Savannah River Operations

Aiken SC 29802

Landholding Agency: Energy

Property Number: 41200430006

Status: Excess

Reasons: Secured Area

Unsuitable Properties

Building

South Carolina

Bldgs. 105-P, 105-R

Savannah River Operations

Aiken SC 29802

Landholding Agency: Energy

Property Number: 41200430007

Status: Excess

Reasons: Secured Area

Bldg. 183-003L

Savannah River Operations

Aiken SC 29802

Landholding Agency: Energy

Property Number: 41200430009

Status: Excess

Reasons: Secured Area

Bldg. 221-016F

Savannah River Operations

Aiken SC 29802

Landholding Agency: Energy

Property Number: 41200430014

Status: Excess

Reasons: Secured Area

Bldgs. 221-053F, 054F

Savannah River Operations

Aiken SC 29802

Landholding Agency: Energy

Property Number: 41200430016

Status: Excess

Reasons: Secured Area

Unsuitable Properties

Building

South Carolina

Bldgs. 252-003F, 005F

Savannah River Operations

Aiken SC 29802

Landholding Agency: Energy

Property Number: 41200430017

Status: Excess

Reasons: Secured Area

Bldg. 315-M

Savannah River Operations

Aiken SC 29802

Landholding Agency: Energy

Property Number: 41200430030

Status: Excess

Reasons: Secured Area

Bldg. 716-002A

Savannah River Operations

Aiken SC 29802

Landholding Agency: Energy

Property Number: 41200430040

Status: Excess

Reasons: Secured Area

Bldgs. 221-21F, 22F

Savannah River Operations

Aiken SC 29802

Landholding Agency: Energy

Property Number: 41200430042

Status: Excess

Reasons: Secured Area

Unsuitable Properties

Building

South Carolina

Bldg. 221-033F

Savannah River Operations

Aiken SC 29802

Landholding Agency: Energy

Property Number: 41200430043

Status: Excess

Reasons: Secured Area

Bldg. 254-007F

Savannah River Operations

Aiken SC 29802

Landholding Agency: Energy

Property Number: 41200430044

Status: Excess

Reasons: Secured Area

Bldg. 281-001F

Savannah River Operations

Aiken SC 29802

Landholding Agency: Energy

Property Number: 41200430045

Status: Excess

Reasons: Secured Area

Bldg. 281-004F

Savannah River Operations

Aiken SC 29802

Landholding Agency: Energy

Property Number: 41200430046

Status: Excess

Reasons: Secured Area

Unsuitable Properties

Building

South Carolina

Bldg. 281-006F

Savannah River Operations

Aiken SC 29802

Landholding Agency: Energy

Property Number: 41200430047

Status: Excess

Reasons: Secured Area

Bldg. 703-045A

Savannah River Operations

Aiken SC 29802

Landholding Agency: Energy

Property Number: 41200430050

Status: Excess

Reasons: Secured Area

Bldg. 703-071A

Savannah River Operations

Aiken SC 29802

Landholding Agency: Energy

Property Number: 41200430051

Status: Excess

Reasons: Secured Area

Bldg. 754-008A

Savannah River Operations

Aiken SC 29802

Landholding Agency: Energy

Property Number: 41200430058

Status: Excess

Reasons: Secured Area

Unsuitable Properties

Building

South Carolina

Bldg. 186-R

Savannah River Site

Aiken SC

Landholding Agency: Energy

Property Number: 41200430063

Status: Unutilized

Reasons: Secured Area

4 Bldgs.

Savannah River Site

#281-2F, 281-5F, 285-F, 285-5F

Aiken SC

Landholding Agency: Energy

Property Number: 41200430066

Status: Unutilized

Reasons: Secured Area

Bldg. 701-000M

Savannah River Site

Aiken SC 29802

Landholding Agency: Energy

Property Number: 41200430084

Status: Unutilized

Reasons: Secured Area

Bldg. 690-000N

Savannah River Site

Aiken SC 29802

Landholding Agency: Energy

Property Number: 41200440032

Status: Underutilized

Reasons: Secured Area

Unsuitable Properties

Building

South Carolina

Facility 701-5G

Savannah River Site

New Ellenton SC

Landholding Agency: Energy

Property Number: 41200530003

Status: Unutilized

Reasons: Extensive deterioration

Bldg. 714-000A

Savannah River Site

Aiken SC

Landholding Agency: Energy

Property Number: 41200620014

Status: Underutilized

Reasons: Secured Area

Bldg. 777-018A

Savannah River Site

Aiken SC 29802

Landholding Agency: Energy

Property Number: 41200620022

Status: Excess

Reasons: Secured Area

Bldgs. 108-1P, 108-2P

Savannah River Site

Aiken SC 29802

Landholding Agency: Energy

Property Number: 41200630007

Status: Unutilized

Reasons: Secured Area

Unsuitable Properties

Building

South Carolina

Bldg. 701-001P

Savannah River Site

Aiken SC 29802

Landholding Agency: Energy

Property Number: 41200640002

Status: Unutilized

Reasons: Secured Area

Bldgs. 151-1P, 151-2P

Savannah River site

Aiken SC 29802

Landholding Agency: Energy

Property Number: 41200640004

Status: Unutilized

Reasons: Secured Area

Bldg. 191-P

Savannah River Site

Aiken SC 29802

Landholding Agency: Energy

Property Number: 41200640005

Status: Unutilized

Reasons: Secured Area

Bldg. 710-P

Savannah River Site

Aiken SC 29802

Landholding Agency: Energy

Property Number: 41200640006

Status: Unutilized

Reasons: Secured Area

Unsuitable Properties

Building

South Carolina

Bldg. 614-63G

Savannah River Site

Aiken SC 29802

Landholding Agency: Energy

Property Number: 41200710006

Status: Unutilized

Reasons: Secured Area

Bldgs. 701-2G, -905-117G

Savannah River Site

Aiken SC 29802

Landholding Agency: Energy

Property Number: 41200710007

Status: Unutilized

Reasons: Secured Area

Bldgs. 108-1R, 108-2R

Savannah River Site

Aiken SC 29802

Landholding Agency: Energy

Property Number: 41200710010

Status: Unutilized

Reasons: Secured Area

Bldgs. 717-003S, 717-010S

Savannah River Site

Aiken SC 29802

Landholding Agency: Energy

Property Number: 41200710011

Status: Unutilized

Reasons: Secured Area

Unsuitable Properties

Building

South Carolina

Bldgs. 1000 thru 1021

Naval Weapons Station

Goose Creek Co: Berkeley SC 29445

Landholding Agency: Navy

Property Number: 77200440018

Status: Unutilized

Reasons: Secured Area

Bldg. 102

Marine Corps Recruit Depot

Parris Island Co: Beaufort SC 29905

Landholding Agency: Navy

Property Number: 77200530017

Status: Unutilized

Reasons: Extensive deterioration, Floodway, Secured Area

21 Bldgs.

Naval Weapons Station

Goose Creek Co: Berkely SC 29445

Landholding Agency: Navy

Property Number: 77200620034

Status: Unutilized

Directions: 4, 167C, 174, 180, 350, 383, 400, 410, 769, 790, 823, 824, 904, 930, 930A, 953, 953A, 971, 975, 2305, 3526

Reasons: Secured Area Within 2000 ft. of flammable or explosive material

Unsuitable Properties

Building

South Carolina

Bldg. 1148

Naval Weapons Station

Goose Creek Co: Berkeley SC 29445

Landholding Agency: Navy

Property Number: 77200630044

Status: Excess

Reasons: Extensive deterioration

Bldg. 200

Marine Corps Recruit Depot

Parris Island SC 29905

Landholding Agency: Navy

Property Number: 77200720018

Status: Unutilized

Reasons: Floodway, Secured Area

Tennessee

Bldg. 9418-1

Y-12 Plant

Oak Ridge Co: Anderson TN 37831

Landholding Agency: Energy

Property Number: 41199810026

Status: Unutilized

Reasons: Secured Area, Extensive deterioration

Unsuitable Properties

Building

Tennessee

Bldg. 2010

Oak Ridge Natl Laboratory

Oak Ridge TN 37831

Landholding Agency: Energy

Property Number: 41200710009

Status: Excess

Reasons: Extensive deterioration, Secured Area

3 Bldgs.

Y-12 Natl Nuclear Security Complex

Oak Ridge TN 37831

Landholding Agency: Energy

Property Number: 41200720001

Status: Unutilized

Directions: 9104-01, 9104-02, 9104-03

Reasons: Secured Area

Bldgs. 1035, 1058, 1061

E. Tennessee Technology Park

Oak Ridge TN

Landholding Agency: Energy

Property Number: 41200730002

Status: Unutilized

Reasons: Contamination, Secured Area, Extensive deterioration

Unsuitable Properties

Building

Tennessee

Bldgs. 1231, 1416

E. Tennessee Technology Park

Oak Ridge TN 37831

Landholding Agency: Energy

Property Number: 41200730003

Status: Unutilized

Reasons: Extensive deterioration, Contamination, Secured Area

Bldgs. 413, 1059

E. TN Tech Park

Oak Ridge TN 37831

Landholding Agency: Energy

Property Number: 41200730006

Status: Excess

Reasons: Secured Area, Contamination

Bldgs. 1000, 1008F, 1028

E. TN Technology Park

Oak Ridge TN 37831

Landholding Agency: Energy

Property Number: 41200810005

Status: Excess

Reasons: Secured Area

Unsuitable Properties

Building

Tennessee

Bldgs. 1101, 1201, 1501

E. TN Technology Park

Oak Ridge TN 37831

Landholding Agency: Energy

Property Number: 41200810006

Status: Excess

Reasons: Within airport runway clear zone, Secured Area

Bldg. 142

Big South Fork

Oneida TN 37841

Landholding Agency: Interior

Property Number: 61200730003

Status: Unutilized

Reasons: Extensive deterioration

17 Buildings

Naval Support Activity

Mid-South

Millington TN 38054

Landholding Agency: Navy

Property Number: 77200520012

Status: Excess

Directions: 892-893, 1704, 1487, 2020, 2035, 2044-2045, 2071, 2074, 2079-2082, 2094, 2096, 2063

Reasons: Secured Area

Unsuitable Properties

Building

Tennessee

Bldgs. 2, 3, 5

Naval/Marine Corps Rsv Ctr

Knoxville Co: Knox TN 37920

Landholding Agency: Navy

Property Number: 77200530018

Status: Unutilized

Reasons: Secured Area, Extensive deterioration

Bldgs. 9720-03, 9720-06

Y-12 Natl Nuclear Security Complex

Oak Ridge TN 37831

Landholding Agency: Navy

Property Number: 77200720038

Status: Unutilized

Reasons: Secured Area

Texas

Zone 12, Bldg. 12-20

Pantex Plant

Amarillo Co: Carson TX 79120

Landholding Agency: Energy

Property Number: 41200220053

Status: Unutilized

Reasons: Secured Area, Within 2000 ft. of flammable or explosive material

Unsuitable Properties

Building

Texas

Bldgs. 12-017E, 12-019E

Pantex Plant

Amarillo Co: Carson TX 79120

Landholding Agency: Energy

Property Number: 41200320010

Status: Unutilized

Reasons: Secured Area, Within 2000 ft. of flammable or explosive material

4 Bldgs.

NNSA Pantex Plant

Amarillo Co: Carson TX 79120

Landholding Agency: Energy

Property Number: 41200540002

Status: Unutilized

Directions: 12-009, 12-009A, 12-R-009A, 12-R-009B

Reasons: Secured Area, Within 2000 ft. of flammable or explosive material

Bldg. 12-011A

NNSA Pantex Plant

Amarillo Co: Carson TX 79120

Landholding Agency: Energy

Property Number: 41200540003

Status: Unutilized

Reasons: Within 2000 ft. of flammable or explosive material, Secured Area

Unsuitable Properties

Building

Texas

Bldg. 12-097

NNSA Pantex Plant

Amarillo Co: Carson TX 79120

Landholding Agency: Energy

Property Number: 41200540004

Status: Unutilized

Reasons: Secured Area, Within 2000 ft. of flammable or explosive material

Bldgs. 11-54, 11-54A

Zone 11

Plantex Plant

Amarillo Co: Carson TX 79120

Landholding Agency: Energy

Property Number: 41200630008

Status: Unutilized

Reasons: Within 2000 ft. of flammable or explosive material, Secured Area

Bldg. 12-002B

Zone 12

Pantex Plant

Amarillo Co: Carson TX 79120

Landholding Agency: Energy

Property Number: 41200630009

Status: Unutilized

Reasons: Within 2000 ft. of flammable or explosive material, Secured Area

Unsuitable Properties

Building

Texas

4 Bldgs.

12-003, 12-R-003, 12-003L

Zone 12, Pantex Plant

Amarillo Co: Carson TX 79120

Landholding Agency: Energy

Property Number: 41200630010

Status: Unutilized

Reasons: Within 2000 ft. of flammable or explosive material, Secured Area

Bldg. 12-014

Zone 12

Pantex Plant

Amarillo Co: Carson TX 79120

Landholding Agency: Energy

Property Number: 41200630011

Status: Unutilized

Reasons: Secured Area, Within 2000 ft. of flammable or explosive material

Bldg. 12-24E

Zone 12

Pantex Plant

Amarillo Co: Carson TX 79120

Landholding Agency: Energy

Property Number: 41200630012

Status: Unutilized

Reasons: Within 2000 ft. of flammable or explosive material, Secured Area

Unsuitable Properties

Building

Texas

Bldg. 11-029, Zone 11

Pantex Plant

Amarillo Co: Carson TX 79120

Landholding Agency: Energy

Property Number: 41200640007

Status: Unutilized

Reasons: Secured Area, Within 2000 ft. of flammable or explosive material

Bldg. 1732

Naval Air Station

Corpus Christi Co: Nueces TX

Landholding Agency: Navy

Property Number: 77200540007

Status: Excess

Reasons: Secured Area, Extensive deterioration

Bldg. 243

Naval Air Station Joint Reserve Base

Ft. Worth Co: Tarrant TX 76127

Landholding Agency: Navy

Property Number: 77200640035

Status: Unutilized

Reasons: Secured Area, Extensive deterioration

Unsuitable Properties

Building

Texas

Bldg. 1430

Naval Air Station Joint Reserve Base

Ft. Worth Co: Tarrant TX 76127

Landholding Agency: Navy

Property Number: 77200640036

Status: Unutilized

Reasons: Extensive deterioration, Secured Area

Bldg. 1500

Naval Air Station Joint Reserve Base

Ft. Worth Co: Tarrant TX 76127

Landholding Agency: Navy

Property Number: 77200640037

Status: Unutilized

Reasons: Extensive deterioration, Secured Area

Bldg. 4151

Naval Air Station Joint Reserve Base

Ft. Worth Co: Tarrant TX 76127

Landholding Agency: Navy

Property Number: 77200640038

Status: Unutilized

Reasons: Secured Area, Extensive deterioration

Unsuitable Properties

Building

Utah

5 Bldgs.

Naval Industrial Ordinance Plant

Magna UT 84044

Landholding Agency: Navy

Property Number: 77200720033

Status: Unutilized

Directions: 4D, 6A, 6C, 8C, 10B

Reasons: Secured Area, Within 2000 ft. of flammable or explosive material

4 Bldgs.

Naval Industrial Ordinance Plant

Magna UT 84044

Landholding Agency: Navy

Property Number: 77200720034

Status: Unutilized

Directions: 11, 15, 16, 19

Reasons: Secured Area, Within 2000 ft. of flammable or explosive material

Bldgs. 22A, 22B, 22C

Naval Industrial Ordinance Plant

Magna UT 84044

Landholding Agency: Navy

Property Number: 77200720035

Status: Unutilized

Reasons: Secured Area, Within 2000 ft. of flammable or explosive material

Unsuitable Properties

Building

Utah

Bldgs. 23A, 23B, 23C

Naval Industrial Ordinance Plant

Magna UT 84044

Landholding Agency: Navy

Property Number: 77200720036

Status: Unutilized

Reasons: Secured Area, Within 2000 ft. of flammable or explosive material

4 Bldgs.

Naval Industrial Ordinance Plant

Magna UT 84044

Landholding Agency: Navy

Property Number: 77200720037

Status: Unutilized

Directions: 33, 45B, 45C, 46D

Reasons: Secured Area, Within 2000 ft. of flammable or explosive material

Virgin Islands

Estate Wintberg

Nos. 1-143-47 & 48

St. Thomas VI 00801

Landholding Agency: GSA

Property Number: 54200810008

Status: Excess

GSA Number: 1-X-VI-0436-1AB

Reasons: Extensive deterioration

Unsuitable Properties

Building

Virginia

Bldgs. 325, 321

Skyline Drive

Luray Co: Page VA 22835

Landholding Agency: Interior

Property Number: 61200710008

Status: Excess

Reasons: Extensive deterioration

Bldgs. 500, 501

Naval Weapon Station

Yorktown VA 23691

Landholding Agency: Navy

Property Number: 77200640012

Status: Excess

Reasons: Extensive deterioration

Bldg. 628

Naval Weapon Station

Yorktown VA 23691

Landholding Agency: Navy

Property Number: 77200640013

Status: Excess

Reasons: Extensive deterioration

Bldg. 2398

Naval Station

Norfolk VA

Landholding Agency: Navy

Property Number: 77200730021

Status: Excess

Reasons: Secured Area

Unsuitable Properties

Building

Virginia

Training Bldg.

USCG Integrated Support Ctr

Portsmouth Co: Norfolk VA 43703

Landholding Agency: Coast Guard

Property Number: 88200530001

Status: Excess

Reasons: Secured Area

Bldg. 011

Integrated Support Center

Portsmouth Co: Norfolk VA 43703

Landholding Agency: Coast Guard

Property Number: 88200620002

Status: Excess

Reasons: Secured Area

9 Bldgs.

USCG Cape Charles Station

Winters Quarters

Northampton VA 23310

Landholding Agency: Coast Guard

Property Number: 88200740001

Status: Unutilized

Reasons: Extensive deterioration

Unsuitable Properties

Building

Washington

79 Structures

Hanford Site 100, 300, 400

Richland Co: Benton WA 99352

Landholding Agency: Energy

Property Number: 41200620010

Status: Excess

Directions: Infrastructure Facilities

Reasons: Secured Area

87 Structures

Hanford Site 100, 300, 400

Richland Co: Benton WA 99351

Landholding Agency: Energy

Property Number: 41200620011

Status: Excess

Directions: Mobile Offices

Reasons: Secured Area

139 Structures

Hanford Site 100, 300, 400

Richland Co: Benton WA 99352

Landholding Agency: Energy

Property Number: 41200620012

Status: Excess

Directions: Offices Facilities

Reasons: Secured Area

Unsuitable Properties

Building

Washington

122 Structures

Hanford Site 100, 300, 400

Richland Co: Benton WA 99352

Landholding Agency: Energy

Property Number: 41200620013

Status: Excess

Directions: Process Facilities

Reasons: Secured Area

Bldg. 128

Yakima Project

Yakima WA 98901

Landholding Agency: Interior

Property Number: 61200630018

Status: Excess

Reasons: Extensive deterioration

Bldgs. 0304, 0305

22416 Road F NE

Soap Lake Co: Grant WA 98851

Landholding Agency: Interior

Property Number: 61200640003

Status: Excess

Reasons: Extensive deterioration

Unsuitable Properties

Building

Washington

Bldgs. 0801, 0804

Frontage Road

West Quincy Co: Grant WA 98848

Landholding Agency: Interior

Property Number: 61200640004

Status: Excess

Reasons: Extensive deterioration

Bldgs. 1202, 1203

S. Maple

Warden Co: Grant WA 98857

Landholding Agency: Interior

Property Number: 61200640005

Status: Excess

Reasons: Extensive deterioration

Bldgs. 1702, 1707

Highway Heights

Mesa Co: Franklin WA 99343

Landholding Agency: Interior

Property Number: 61200640006

Status: Excess

Reasons: Extensive deterioration

Bldg. 1806

Klamath Road

Mesa Co: Franklin WA 99343

Landholding Agency: Interior

Property Number: 61200640007

Status: Excess

Reasons: Extensive deterioration

Unsuitable Properties

Building

Washington

Bldg. 134

North Cascades Natl Park

Stehekin Co: Chelan WA 98852

Landholding Agency: Interior

Property Number: 61200710009

Status: Unutilized

Reasons: Extensive deterioration

Bldg. 9470-0009

North Cascades Natl Park

Stehekin Co: Chelan WA

Landholding Agency: Interior

Property Number: 61200720003

Status: Unutilized

Reasons: Extensive deterioration

Bldgs. 62, 63

Yakima WA 98944

Landholding Agency: Interior

Property Number: 61200740005

Status: Unutilized

Reasons: Extensive deterioration

5 Bldgs.

74, 75, 77, 78, 79

Yakima WA 98944

Landholding Agency: Interior

Property Number: 61200740006

Status: Unutilized

Reasons: Extensive deterioration

Unsuitable Properties

Building

Washington

Bldg. 529

Puget Sound Naval Shipyard

Bremerton WA 98314-5000

Landholding Agency: Navy

Property Number: 77200040020

Status: Excess

Reasons: Secured Area

Bldg. 8

Naval Reserve Center

Spokane WA 99205

Landholding Agency: Navy

Property Number: 77200430025

Status: Excess

Reasons: Extensive deterioration, Secured Area

Bldgs. 10, 11

Naval Reserve Center

Spokane WA 99205

Landholding Agency: Navy

Property Number: 77200430026

Status: Excess

Reasons: Extensive deterioration, Secured Area

Unsuitable Properties

Building

Washington

Bldgs. 2656-2658

Naval Air Station

Lake Hancock

Coupeville Co: Island WA 98239

Landholding Agency: Navy

Property Number: 77200430027

Status: Unutilized

Reasons: Secured Area

Bldgs. 2652, 2705

Naval Air Station

Whidbey

Oak Harbor WA 98277

Landholding Agency: Navy

Property Number: 77200440010

Status: Unutilized

Reasons: Secured Area

Bldgs. 79, 884

NAS Whidbey Island

Seaplane Base

Oak Harbor WA 98277

Landholding Agency: Navy

Property Number: 77200440011

Status: Unutilized

Reasons: Secured Area

Unsuitable Properties

Building

Washington

Bldg. 121

NAS Whidbey Island

Ault Field

Oak Harbor WA 98277

Landholding Agency: Navy

Property Number: 77200440012

Status: Unutilized

Reasons: Secured Area

Bldg. 419

NAS Whidbey Island

Ault Field

Oak Harbor WA 98277

Landholding Agency: Navy

Property Number: 77200440013

Status: Unutilized

Reasons: Secured Area

Bldgs. 2609, 2610

NAS Whidbey Island

Ault Field

Oak Harbor WA 98277

Landholding Agency: Navy

Property Number: 77200440014

Status: Unutilized

Reasons: Secured Area

Unsuitable Properties

Building

Washington

Bldg. 2753

NAS Whidbey Island

Ault Field

Oak Harbor WA 98277

Landholding Agency: Navy

Property Number: 77200440015

Status: Unutilized

Reasons: Secured Area

Bldg. 108

Naval Magazine

Port Hadlock Co: Jefferson WA

98339-9723

Landholding Agency: Navy

Property Number: 77200510015

Status: Unutilized

Reasons: Extensive deterioration, Secured Area

Bldg. 351

Puget Sound Naval Shipyard

Bremerton WA 98314

Landholding Agency: Navy

Property Number: 77200530026

Status: Unutilized

Reasons: Secured Area, Within 2000 ft. of flammable or explosive material

Unsuitable Properties

Building

Washington

Bldg. 1032

Naval Base

Bangor Tower Site

Silverdale WA 98315

Landholding Agency: Navy

Property Number: 77200630045

Status: Unutilized

Reasons: Within 2000 ft. of flammable or explosive material, Secured Area

Bldg. 71

Naval Magazine

Port Hadlock Co: Jefferson WA 98339-9723

Landholding Agency: Navy

Property Number: 77200640007

Status: Unutilized

Reasons:

Extensive deterioration, Secured Area

Bldgs. 82, 83

Naval Magazine

Port Hadlock Co: Jefferson WA 98339-9723

Landholding Agency: Navy

Property Number: 77200640008

Status: Unutilized

Reasons: Extensive deterioration, Secured Area

Unsuitable Properties

Building

Washington

Bldgs. 168, 188

Naval Magazine

Port Hadlock Co: Jefferson WA

98339-9723

Landholding Agency: Navy

Property Number: 77200640009

Status: Unutilized

Reasons: Extensive deterioration, Secured Area

Bldg. 729

Naval Magazine

Port Hadlock Co: Jefferson WA

98339-9723

Landholding Agency: Navy

Property Number: 77200640010

Status: Unutilized

Reasons:

Extensive deterioration, Secured Area

Bldgs. 910, 921

Naval Magazine

Port Hadlock Co: Jefferson WA 98339-9723

Landholding Agency: Navy

Property Number: 77200640011

Status: Unutilized

Reasons: Extensive deterioration, Secured Area

Unsuitable Properties

Building

Washington

Bldgs. 407, 447

Naval Base

Bremerton Co: Kitsap WA 98310

Landholding Agency: Navy

Property Number: 77200640014

Status: Excess

Reasons: Secured Area

Bldg. 867

Naval Base

Bremerton Co: Kitsap WA 98310

Landholding Agency: Navy

Property Number: 77200640015

Status: Excess

Reasons: Secured Area

Bldgs. 937, 975

Naval Base

Bremerton Co: Kitsap WA 98310

Landholding Agency: Navy

Property Number: 77200640016

Status: Excess

Reasons: Secured Area

Bldg. 1449

Naval Base

Silverdale Co: Kitsap WA 98315

Landholding Agency: Navy

Property Number: 77200640017

Status: Unutilized

Reasons: Secured Area

Unsuitable Properties

Building

Washington

Bldg. 1670

Naval Base

Silverdale Co: Kitsap WA 98315

Landholding Agency: Navy

Property Number: 77200640018

Status: Unutilized

Reasons: Secured Area

Bldgs. 2007, 2801

Naval Base

Silverdale Co: Kitsap WA 98315

Landholding Agency: Navy

Property Number: 77200640019

Status: Unutilized

Reasons: Secured Area

Bldgs. 6021, 6095

Naval Base

Silverdale Co: Kitsap WA 98315

Landholding Agency: Navy

Property Number: 77200640020

Status: Unutilized

Reasons: Secured Area

Bldgs. 6606, 6661

Naval Base

Silverdale Co: Kitsap WA 98315

Landholding Agency: Navy

Property Number: 77200640021

Status: Unutilized

Reasons: Secured Area

Unsuitable Properties

Building

Washington

Bldgs. 726, 727, 734

Naval Undersea Warfare

Keyport Co: Kitsap WA 98345

Landholding Agency: Navy

Property Number: 77200640022

Status: Unutilized

Reasons: Secured Area, Within 2000 ft. of flammable or explosive material

Bldgs. 901, 911

Naval Undersea Warfare

Keyport Co: Kitsap WA 98345

Landholding Agency: Navy

Property Number: 77200640023

Status: Unutilized

Reasons: Secured Area, Within 2000 ft. of flammable or explosive material

Bldgs. 925, 938

Naval Undersea Warfare

Keyport Co: Kitsap WA 98345

Landholding Agency: Navy

Property Number: 77200640024

Status: Unutilized

Reasons: Within 2000 ft. of flammable or explosive material, Secured Area

Unsuitable Properties

Building

Washington

Bldg. 1020

Naval Undersea Warfare

Keyport Co: Kitsap WA 98345

Landholding Agency: Navy

Property Number: 77200640025

Status: Unutilized

Reasons: Within 2000 ft. of flammable or explosive material, Secured Area

Fisher Transit Site

Easement

Jefferson WA

Landholding Agency: Navy

Property Number: 77200710015

Status: Excess

Reasons: Other—Remote Location

Bldgs. 437, 853

Naval Base

Bremerton Co: Kitsap WA 98310

Landholding Agency: Navy

Property Number: 77200710018

Status: Unutilized

Reasons: Secured Area

Unsuitable Properties

Building

Washington

Bldg. 1039

Naval Base

Bremerton Co: Kitsap WA 98310

Landholding Agency: Navy

Property Number: 77200710019

Status: Unutilized

Reasons: Secured Area, Within 2000 ft. of flammable or explosive material

Bldgs. 1400, 1461

Naval Base

Bremerton Co: Kitsap WA 98310

Landholding Agency: Navy

Property Number: 77200710020

Status: Unutilized

Reasons: Within 2000 ft. of flammable or explosive material, Secured Area

Bldg. 6026

Naval Base

Bremerton Co: Kitsap WA 98310

Landholding Agency: Navy

Property Number: 77200710021

Status: Unutilized

Reasons: Secured Area, Within 2000 ft. of flammable or explosive material

Unsuitable Properties

Building

Washington

Bldgs. 6608, 6609, 6904

Naval Base

Bremerton Co: Kitsap WA 98310

Landholding Agency: Navy

Property Number: 77200710022

Status: Unutilized

Reasons: Within 2000 ft. of flammable or explosive material, Secured Area

Bldgs. 110, 116

Naval Air Station

Oak Harbor WA 98278

Landholding Agency: Navy

Property Number: 77200740013

Status: Excess

Reasons: Secured Area

Bldg. 839

Puget Sound Naval Shipyard

Bremerton WA 98314

Landholding Agency: Navy

Property Number: 77200740014

Status: Excess

Reasons: Within 2000 ft. of flammable or explosive material, Secured Area

Unsuitable Properties

Building

Washington

Bldgs. 402, 403, 2634

Naval Air Station

Oak Harbor Co: Whidbey Island WA 96278

Landholding Agency: Navy

Property Number: 77200810020

Status: Excess

Reasons: Extensive deterioration

Garage

Browns Point Light Station

Tacoma WA 99207

Landholding Agency: Coast Guard

Property Number: 88200730002

Status: Unutilized

Reasons: Extensive deterioration

Wisconsin

Bldg. OV1

USCG Station

Bayfield WI 54814

Landholding Agency: Coast Guard

Property Number: 88200620001

Status: Excess

Reasons: Secured Area

Unsuitable Properties

Land

Arizona

58 acres

VA Medical Center

500 Highway 89 North

Prescott Co: Yavapai AZ 86313

Landholding Agency: VA

Property Number: 97190630001

Status: Unutilized

Reasons: Floodway

20 acres

VA Medical Center

500 Highway 89 North

Prescott Co: Yavapai AZ 86313

Landholding Agency: VA

Property Number: 97190630002

Status: Underutilized

Reasons: Floodway

California

0.038 acre

Ortega Reservoir

Summerland CA 93067

Landholding Agency: Interior

Property Number: 61200710012

Status: Unutilized

Reasons: Other—inaccessible

Unsuitable Properties

Land

California

Trailer Space

Naval Base

San Diego CA

Landholding Agency: Navy

Property Number: 77200520013

Status: Unutilized

Reasons: Secured Area

Parcels 1, 2, 3, 4

Naval Base

Port Hueneme Co: Ventura CA 93043

Landholding Agency: Navy

Property Number: 77200630003

Status: Underutilized

Reasons: Secured Area

Parcels 11, 12, 13, 14, 15

Naval Base

Port Hueneme Co: Ventura CA 93043

Landholding Agency: Navy

Property Number: 77200630004

Status: Underutilized

Reasons: Secured Area

Sand Spit

Naval Base

Port Hueneme Co: Ventura CA 93043

Landholding Agency: Navy

Property Number: 77200720008

Status: Underutilized

Reasons: Floodway

Unsuitable Properties

Land

Colorado

0.04 acres

Vega Reservoir

Collbran CO 81624

Landholding Agency: Interior

Property Number: 61200720001

Status: Excess

Reasons: Other—right-of-way

Connecticut

Approx. 1 acre

Naval Submarine Base

Groton CT 06349

Landholding Agency: Navy

Property Number: 77200810012

Status: Underutilized

Reasons: Within 2000 ft. of flammable or explosive material, Secured Area

Florida

Encroachment No. GB-35

Perdido Key Co: Escambia FL 32507

Landholding Agency: GSA

Property Number: 54200810007

Status: Excess

GSA Number: 4-D-FL-6208AA

Reasons: Floodway, Not accessible by road

Unsuitable Properties

Land

Florida

Encroachment No. GB-37

Perdido Key Co: Escambia FL

Landholding Agency: GSA

Property Number: 54200810009

Status: Excess

GSA Number: 4-D-FL-6208AB

Reasons: Floodway

Wildlife Sanctuary, VAMC

10,000 Bay Pines Blvd.

Bay Pines Co: Pinellas FL 33504

Landholding Agency: VA

Property Number: 97199230004

Status: Underutilized

Reasons: Other—Inaccessible

Minnesota

3.85 acres (Area #2)

VA Medical Center

4801 8th Street

St. Cloud Co: Stearns MN 56303

Landholding Agency: VA

Property Number: 97199740004

Status: Unutilized

Reasons: Other—landlocked

Unsuitable Properties

Land

Minnesota

7.48 acres (Area #1)

VA Medical Center

4801 8th Street

St. Cloud Co: Stearns MN 56303

Landholding Agency: VA

Property Number: 97199740005

Status: Underutilized

Reasons: Secured Area

Montana

Sewage Lagoons/40 acres

VA Center

Ft. Harrison MT 59639

Landholding Agency: VA

Property Number: 97200340007

Status: Excess

Reasons: Floodway

New York

Tract 1

VA Medical Center

Bath Co: Steuben NY 14810

Landholding Agency: VA

Property Number: 97199010011

Status: Unutilized

Directions: Exit 38 off New York State Route 17.

Reasons: Secured Area

Unsuitable Properties

Land

New York

Tract 2

VA Medical Center

Bath Co: Steuben NY 14810

Landholding Agency: VA

Property Number: 97199010012

Status: Underutilized

Directions: Exit 38 off New York State Route 17.

Reasons: Secured Area

Tract 3

VA Medical Center

Bath Co: Steuben NY 14810

Landholding Agency: VA

Property Number: 97199010013

Status: Underutilized

Directions: Exit 38 off New York State Route 17.

Reasons: Secured Area

Tract 4

VA Medical Center

Bath Co: Steuben NY 14810

Landholding Agency: VA

Property Number: 97199010014

Status: Unutilized

Directions: Exit 38 off New York State Route 17.

Reasons: Secured Area

Unsuitable Properties

Land

Utah

0.47 acre

Feeder Canal

Hyrum UT 84319

Landholding Agency: Interior

Property Number: 61200740007

Status: Excess

Reasons: Other—landlocked

Washington

405 sq. ft./Land

Naval Base Kitsap

Bangor WA

Landholding Agency: Navy

Property Number: 77200520060

Status: Unutilized

Reasons: Secured Area

230 sq. ft. land

Naval Magazine

Indian Island WA

Landholding Agency: Navy

Property Number: 77200620037

Status: Underutilized

Reasons: Secured Area, Within 200 ft. of flammable or explosive material

Unsuitable Properties

Land

Washington

Tabook Transit Site

Easement

Jefferson WA

Landholding Agency: Navy

Property Number: 77200710016

Status: Excess

Reasons: Other—Remote Location

[FR Doc. E8-5105 Filed 3-14-08; 8:45 am]

BILLING CODE 4210-67-P